PENSION BENEFIT GUARANTY CORPORATION

Privacy Act of 1974; Systems of Records

AGENCY: Pension Benefit Guaranty Corporation.

ACTION: Notice of changes to systems of records and addition of routine uses.

SUMMARY: The Pension Benefit Guaranty Corporation is proposing four new routine uses applicable to all of its existing systems of records maintained pursuant to the Privacy Act of 1974, as amended (5 U.S.C. 552a), three new systems of records, adding new routine uses to existing systems of record, and is amending eight systems of records to make technical and clarifying changes.

DATES: Comments on the new system of records, proposed routine uses, and technical and clarifying changes must be received on or before October 26, 2012. The new systems of records, routine uses, and technical and clarifying changes will become effective on November 13, 2012 without further notice, unless comments result in a contrary determination and a notice is published to that effect.

ADDRESSES: You may submit written comments to PBGC by any of the following methods:

• Federal eRulemaking Portal: http://www.regulations.gov. Follow the Web site instructions for submitting comments.

• Email: reg.comments@pbgc.gov.

• Fax: 202-326-4224.

• Mail or Hand Delivery: Legislative and Regulatory Department, Pension Benefit Guaranty Corporation, 1200 K Street NW., Washington, DC 20005-4026.

Comments received, including personal information provided, will be posted to http://www.pbgc.gov. Copies of comments may also be obtained by writing to Disclosure Division, Office of General Counsel, Pension Benefit Guaranty Corporation, 1200 K Street NW., Washington, DC 20005-4026, or calling 202-326-4040 during normal business hours. (TTY and TDD users may call the Federal relay service toll-free at 1-800-877-8339 and ask to be connected to 202-326-4040.)

FOR FURTHER INFORMATION CONTACT: Margaret E. Drake, Special Counsel, Pension Benefit Guaranty Corporation, Office of the General Counsel, 1200 K Street NW., Washington, DC 20005-4026, 202-326-4400 or 1-800-400-7242, extension 3228 (TTY and TDD users may call the Federal relay service toll-free at 1-800-877-8339 and ask to be connected to 202-326-4400). For access to any of the PBGC's systems of records, contact PBGC's Disclosure Officer, Office of the General Counsel, Disclosure Division, at the above address, 202-326-4040 or 1-800-400-7242.

SUPPLEMENTARY INFORMATION: The PBGC is proposing to add three new systems of records, PBGC-18, Office of Negotiations and Restructuring Risk Management Early Warning (RMEW) System; PBGC-19, Office of General Counsel Legal Management System; and, PBGC-20, Identity Management System. In addition, PBGC is proposing to alter each of its system of records maintained pursuant to the Privacy Act of 1974, as amended, by establishing four new general routine uses, and by adding new routine uses to the following existing systems of records: PBGC-3, Employee Payroll, Leave, and Attendance Records (last updated at 75 FR 37842 (June 30, 2010)), PBGC-6, Plan Participant and Beneficiary Data—PBGC (last updated at 75 FR 37842 (June 30, 2010)), PBGC-9, Plan Participant and Beneficiary Address Identification File (last updated at 75 FR 37842 (June 30, 2010)), PBGC-11, Call Detail Records (last updated at 75 FR 37842 (June 30, 2010)), PBGC-13, Debt Collection (last updated at 75 FR 37842 (June 30, 2010)), and PBGC-15, Emergency Notification Records (last updated at 75 FR 37842 (June 30, 2010)). PBGC is also amending eight systems of records to make technical and clarifying changes after undertaking a periodic review of those systems as required under Appendix 1 to the Office of Management and Budget (“OMB”) Circular A-130, Management of Federal Information Resources (Nov. 28, 2000). The eight systems of records being amended are: PBGC-1, Correspondence Between the PBGC and Persons Outside of the PBGC-PBGC (last published at 75 FR 37842 (June 30, 2010)), PBGC-2, Disbursements—PBGC (last published at 75 FR 37842 (June 30, 2010)), PBGC-4, Employee Travel Records—PBGC (last published at 75 FR 37842 (June 30, 2010)), PBGC-5, Personnel Files—PBGC, (last published at 75 FR 37842 (June 30, 2010)), PBGC-8, Employee Relations Files—PBGC (last published at 75 FR 37842 (June 30, 2010)), PBGC-10, Administrative Appeals File—PBGC (last published at 75 FR 37842 (June 30, 2010)), PBGC-12, Security Investigation Records—PBGC (last updated at 75 FR 37842 (June 30, 2010)), PBGC-14, My Plan Administration Account Authentication Records—PBGC (last published at 75 FR 37842 (June 30, 2010)), PBGC-16, Employee Online Directory—PBGC (last published at 75 FR 37842 (June 30, 2010)), and PBGC-17, Inspector General Investigative File System.

General Routine Uses

PBGC is proposing to amend its Prefatory Statement of General Routine Uses by establishing four new general routine uses that will apply to all its systems of records. PBGC's Prefatory Statement of General Routine Uses was last published at 75 FR 37842 (June 30, 2010). Proposed routine use G10 will permit PBGC to disclose information to PBGC contractors, consultants, and experts when it is necessary to accomplish an agency function. Individuals provided information under this routine use are subject to the same Privacy Act requirements and limitations on disclosure as are applicable to PBGC employees.

Proposed routine use G11 will permit PBGC to disclose information to the National Archives and Records Administration and General Services Administration for records management inspections. PBGC is proposing this routine use to allow PBGC to comply with the mandate that PBGC cooperate with records management inspections under 44 U.S.C. 2904 and 2906.

Proposed routine use G12 will permit PBGC to disclose information to any potential or actual source from which information is requested to the extent necessary to identify the individual, inform the potential or actual source of the purpose(s) of the request, and identify the type of information requested.

Proposed routine use G13 will permit PBGC to disclose information to a Federal agency, in response to a request, when it is needed in connection with a decision regarding hiring, retention, the issuance of a security clearance, conducting a security or suitability investigation, or classifying jobs.

The Privacy Act authorizes the PBGC to adopt routine uses that are consistent with the purpose for which information is collected. 5 U.S.C. 552a(a)(7) and (b)(3). OMB, in its initial Privacy Act guidance, also recognized routine uses that are necessary and proper for the efficient conduct of the government and in the best interest of both the individual and the public. 40 FR 28948, 28953 (July 9, 1975). Routine uses to provide for disclosure in connection with performing the agency's mission, allowing the government's Archivist to audit PBGC's records management, gathering information from a source, and providing information to another Federal agency in connection with a personnel or security decision qualify as a necessary and proper use of information.

In addition to PBGC-1, PBGC-2, PBGC-3, PBGC-4, PBGC-5, PBGC-6, PBGC-8, PBGC-9, PBGC-10, PBGC-11, PBGC-12, PBGC-13, PBGC-14, PBGC-15, PBGC-16, and PBGC-17 discussed below, proposed routine uses G10, G11, G12, and G13 will apply to PBGC-18, Office of Negotiations and Restructuring Risk Management Early Warning (RMEW) System; PBGC-19, Office of General Counsel Legal Management System; and, PBGC-20, Identification Management System.

Revising Routine Uses in PBGC System of Records PBGC-3, PBGC-6, PBGC-9, PBGC-11, PBGC-13, and PBGC-15

PBGC-3

For PBGC-3, Employee Payroll, Leave, and Attendance Records, PBGC is adding the following routine uses: (1) Allowing disclosure to the Department of Labor (this routine use was deleted in the June 30, 2010 publication, but PBGC has since determined that it is still necessary); (2) allowing disclosure to the Treasury Department, the Department of Justice, and collection agencies in connection with debt collection from current and former PBGC employees who owe PBGC money. While PBGC is authorized to disclose this information under its system of records entitled, PBGC-13, Debt Collection, PBGC feels that it is prudent to also place current and former employees on notice in this system of records.

PBGC-4

PBGC is proposing three new routine uses under its system of records entitled PBGC-4, Employee Travel Records. The first proposed routine use will permit PBGC to disclose information to the Washington Metropolitan Area Transit Authority (WMATA) in connection with employee transit benefits. The second proposed routine use will permit PBGC to disclose information to the Treasury Department, the Department of Justice, and collection agencies in connection with debt collection from current and former PBGC employees who owe PBGC money. While PBGC is authorized to disclose this information under its system of records entitled, PBGC-13, Debt Collection, PBGC feels that it is prudent to also place current and former employees on notice in this system of records. The third proposed routine use will permit PBGC to disclose personal credit card information to various parties in connection with making travel arrangements related to an employee's official duties.

PBGC-6

PBGC is proposing to move six routine uses from its system of records entitled PBGC-6, Plan Participant and Beneficiary Data—PBGC to its system if records entitled, PBGC-9, Plan Participant and Beneficiary Address Identification File. These six routine uses address the disclosure of information to locate plan participants and beneficiaries in pension plans trusteed by PBGC.

In addition, PBGC is proposing two new routine uses permitting PBGC to periodically disclose the names, Social Security Numbers, and date of birth to the Social Security Administration and the Department Treasury's Bureau of Public Debt when there is a question about whether a participant or beneficiary is eligible for a benefit paid by PBGC.

To protect the privacy of individuals, disclosure of PBGC records under the routine use will be made under an Interagency Agreement subjecting the Social Security Administration and Bureau of Public Debt and their employees and contractors to criminal penalties under the Privacy Act. The Interagency Agreement will provide that the records disclosed by PBGC will be used exclusively for retrieving the data specified by PBGC and that either records will not be retained by the agency or it must be returned to PBGC or destroyed when the process is completed.

PBGC-9

PBGC is proposing to move six routine uses from its system of records entitled, PBGC-6, Plan Participant and Beneficiary Data, to its system of records entitled, PBGC-9, Plan Participant and Beneficiary Address Identification File. PBGC has a statutory obligation to pay pension benefits for plans it trustees and, at times, needs assistance to locate participants and beneficiaries when PBGC does not have a current address. These six routine uses permit PBGC to disclose certain information to various parties, including the public, for assistance in locating “missing” participants and beneficiaries. These routine uses have been included under PBGC's system of records entitled PBGC-6, Plan Participant and Beneficiary Data, which contains current information participants and beneficiaries; however, they are better located under PBGC-9, which was established locate updated contact information for “missing” participants and beneficiaries.

PBGC-11

PBGC is proposing to add a routine use under its system of records entitled PBGC-11, Call Detail Records. The new routine use will permit PBGC to disclose information from this system to the Department of Treasury, the Department of Justice, a credit agency, and a debt collection firm in connection with debts owed as a result of unauthorized long-distance calls made on PBGC equipment. While PBGC is authorized to disclose this information under its system of records entitled, PBGC-13, Debt Collection, PBGC feels that it is prudent to also place current and former employees and contractors on notice in this system of records.

PBGC-13

PBGC is proposing to add two routine uses under its system of records entitled, PBGC-13, Debt Collection. The first proposed routine use will permit PBGC to disclose the nature of the debt, the name, address, and phone numbers of individuals and companies owing a debt to the PBGC to a debt collection firm. To protect the privacy of individuals, disclosure of PBGC records under this routine use will be made under a contract subjecting the firm and its employees to the criminal penalties of the Privacy Act. The contract will provide that the PBGC records will be used exclusively to collect the debts indicated by PBGC and must be returned to PBGC at the conclusion of the debt collection effort.

The second proposed routine use will permit PBGC to disclose information to any Federal, state, or local agency, U.S. territory or commonwealth, or the District of Columbia to collect debts owed to PBGC. This routine use is being proposed following PBGC's update to its debt collection regulations.

PBGC-15

PBGC is proposing to add a new routine use under its system of records entitle PBGC-15, Emergency Notification Records. This proposed routine use will permit PBGC to disclose records maintained in the system to family members, emergency medical personnel, or to law enforcement in the case of a medical or other emergency.

Addition of System of Records

PBGC-18, Office Negotiations and Restructuring Risk Management Early Warning (RMEW) System

PBGC is proposing to establish a new system of records entitled “PBGC-18, Office of Negotiations and Restructuring Risk Management Early Warning (RMEW) System.” The proposed system of records is necessary to the functions performed by the Office of Chief Counsel (OCC) and Corporate Finance and Recovery Department (CFRD), and will cover only those files that identify by name, or other personal identifier, individuals who are sources of information for or subjects of PBGC investigations and litigation carried out under applicable statutes, regulations, policies, and procedures concerning the potential termination and trusteeship of ERISA Title IV pension plans, as well as civil or administrative matters concerning companies or individuals associated with ERISA Title IV pension plans. These files may include reports; copies of financial and contractual records; background data including witness statements, summonses and subpoenas; and other information related to investigations and litigation.

OCC and CFRD, as they have always done, will continue to respect the privacy of individuals named in these files and will disclose, within the boundaries of the law, the least amount of information necessary to perform its responsibilities.

The collection and maintenance of records subject to this system are not new because records of the same type have been collected and maintained in the OCC and CFRD since the agency's establishment. Those records, however, were not maintained or retrieved by a name or other personal identifier. With the implementation of a new electronic records management system, these records will now be in a system of records, as defined in The Privacy Act Implementation: Guidelines and Responsibilities, 40 FR 28,498 (July 9, 1975). Electronic information will be kept in an environment with physical and logical security. Computers and hard copy records are maintained in a secured environment.

Pursuant to 5 U.S.C. 552a(e)(11), interested persons are invited to submit written comments on this proposal. A report on the proposed system has been sent to Congress and the Office of Management and Budget for their evaluation.

PBGC-19, Office of General Counsel Legal Management System

PBGC is proposing to establish a new system of records entitled “PBGC-19, Office of General Counsel Legal Management System.” The proposed system of records is necessary to the functions performed by the Office of the General Counsel (OGC) and will cover only those files that identify by name, or other personal identifier, individuals who are sources of information for or subjects of litigation relating to ERISA Title IV, labor and employment, and procurement matters. These files may include reports; copies of financial and contractual records; background data including personnel records, witness statements, summonses and subpoenas, discovery requests and responses, and resumes; ethics advice; and breach reports and supporting documentation. OGC, as it has always done, will continue to respect the privacy of individuals named in these files and will disclose, within the boundaries of the law, the least amount of information necessary to perform its responsibilities.

The collection and maintenance of records subject to this system are not new because records of the same type have been collected and maintained in the OGC since the agency's establishment. Those records, however, were not maintained or retrieved by a name or other personal identifier. With the implementation of a new electronic records management system, these records will now be in a system of records, as defined in The Privacy Act Implementation: Guidelines and Responsibilities, 40 FR 28,498 (July 9, 1975). Electronic information will be kept in an environment with physical and logical security. Computers and hard copy records are maintained in a secured environment.

Pursuant to 5 U.S.C. 552a(e)(11), interested persons are invited to submit written comments on this proposal. A report on the proposed system has been sent to Congress and the Office of Management and Budget for their evaluation.

PBGC-20, Identification Management System

PBGC is proposing to establish a new system of records entitled “PBGC-20, Identification Management System.” The proposed system of records is necessary to the functions performed by the Facilities and Services Department (FASD), and will cover only those files that identify by name, or other personal identifier, individuals who require regular, ongoing access to agency facilities, information technology systems, or information classified in the interest of national security, including applicants for employment or contracts, federal employees, contractors, students, interns, and volunteers, and individuals formerly in any of these positions. The system also includes individuals authorized to perform or use services provided in agency facilities (e.g., Fitness Center). The files may contain information about background investigations, biometric data, Personal Identity Verification (PIV) card issuance, and PIV card use, including entrance and exit from PBGC facilities. This information may be used to: (a) Ensure the safety and security of PBGC facilities, systems, or information, and our occupants and users; (b) verify that all persons entering federal facilities, using federal information resources, or accessing classified information are authorized to do so; and, (c) track and control PIV cards issued to persons entering and exiting the facilities, using systems, or accessing classified information.

FASD, as it has always done, will continue to respect the privacy of individuals named in these files and will disclose, within the boundaries of the law, the least amount of information necessary to perform its responsibilities.

The collection and maintenance of records subject to this system are not new because records of the same type have been collected and maintained in FASD since its establishment. Those records, however, were not maintained or retrieved by a name or other personal identifier. With the implementation of an electronic records management system, these records will now be in a system of records, as defined in The Privacy Act Implementation: Guidelines and Responsibilities, 40 FR 28,498 (July 9, 1975). Electronic information will be kept in an environment with physical and logical security, including encryption of information on external computer media. Computers and hard copy records are maintained in a secured environment.

Pursuant to 5 U.S.C. 552a(e)(11), interested persons are invited to submit written comments on this proposal. A report on the proposed system has been sent to Congress and the Office of Management and Budget for their evaluation.

Technical and Clarifying Amendments

In addition to establishing new general routine uses G10, G11, G12, and G13, PBGC is amending PBGC-1, Correspondence Between the PBGC and Persons Outside of the PBGC—PBGC, PBGC-2, Disbursements—PBGC, PBGC-3, Employee Payroll, Leave and Attendance Records-PBGC, PBGC-4, Employee Travel Records—PBGC, PBGC-5, Personnel Files—PBGC, PBGC-6, Plan Participant and Beneficiary Data—PBGC, PBGC-8, Employee Relations Files—PBGC, PBGC-9, Plan Participant and Beneficiary Address Identification File—PBGC, PBGC-10, Administrative Appeals File—PBGC, PBGC-11, Call Detail Records—PBGC, PBGC-12, Security Investigation Records—PBGC, PBGC-13, Debt Collection—PBGC, PBGC-14, My Plan Administration Account Authentication Records—PBGC, PBGC-15, Emergency Notification Records—PBGC, PBGC-16, Employee Online Directory—PBGC, and PBGC-17, Inspector General Investigative File System to correct and update the categories of individuals covered by the system, categories of records in the system, purposes, storage, retrievability, safeguards, retention and disposal, records in the system, and record source categories. The amendments clarify the nature and purposes of the systems of records and reflect changes that have occurred since they were last published.

For the convenience of the public, PBGC's Prefatory Statement of General Routine Uses with proposed general routine uses G10, G11, G12, and G13 and the amended systems of records are published in full below with changes italicized.

Issued in Washington, DC, this 4th day of September 2012.
Joshua Gotbaum,
Director, Pension Benefit Guaranty Corporation.

Prefatory Statement of General Routine Uses

The following routine uses are incorporated by reference into various systems of records, as set forth below.

G1. Routine Use—Law Enforcement: In the event that a system of records maintained by the PBGC to carry out its functions indicates a violation or potential violation of law, whether criminal, civil, or regulatory in nature, and whether arising by general statute or particular program pursuant thereto, the relevant records in the system of records may be disclosed to the appropriate agency, whether federal, state, local, or foreign, charged with the responsibility of investigating or prosecuting such violation or charged with enforcing or implementing the statute, or rule, regulation, or order issued pursuant thereto.

G2. Routine Use—Disclosure When Requesting Information: A record from this system of records may be disclosed to a federal, state, or local agency or to another public or private source maintaining civil, criminal, or other relevant enforcement information or other pertinent information, if and to the extent necessary to obtain information relevant to a PBGC decision concerning the hiring or retention of an employee, the retention of a security clearance, or the letting of a contract.

G3. Routine Use—Disclosure of Existence of Record Information: With the approval of the Director, Human Resources Department (or his or her designee), the fact that this system of records includes information relevant to a federal agency's decision in connection with the hiring or retention of an employee, the retention of a security clearance, the letting of a contract, or the issuance of a license, grant, or other benefit may be disclosed to that federal agency.

G4. Routine Use—Disclosure in Litigation: A record from this system of records may be disclosed in a proceeding before a court or other adjudicative body in which the PBGC, an employee of the PBGC in his or her official capacity, or an employee of the PBGC in his or her individual capacity if the PBGC (or the Department of Justice (“DOJ”)) has agreed to represent him or her is a party, or the United States or any other federal agency is a party and the PBGC determines that it has an interest in the proceeding, if the PBGC determines that the record is relevant to the proceeding and that the use is compatible with the purpose for which the PBGC collected the information.

G5. Routine Use—Disclosure to the Department of Justice in Litigation: When the PBGC, an employee of the PBGC in his or her official capacity, or an employee of the PBGC in his or her individual capacity whom the PBGC has agreed to represent is a party to a proceeding before a court or other adjudicative body, or the United States or any other federal agency is a party and the PBGC determines that it has an interest in the proceeding, a record from this system of records may be disclosed to the DOJ if the PBGC is consulting with the DOJ regarding the proceeding or has decided that the DOJ will represent the PBGC, or its interest, in the proceeding and the PBGC determines that the record is relevant to the proceeding and that the use is compatible with the purpose for which the PBGC collected the information.

G6. Routine Use—Disclosure to OMB: A record from this system of records may be disclosed to the Office of Management and Budget in connection with the review of private relief legislation as set forth in OMB Circular No. A-19 at any stage of the legislative coordination and clearance process as set forth in that Circular.

G7. Routine Use—Congressional Inquiries: A record from this system of records may be disclosed to a congressional office from the record of an individual in response to an inquiry from the congressional office made at the request of the individual.

G8. Routine Use—Disclosure to Labor Organizations: A record from this system of records may be disclosed to an official of a labor organization recognized under 5 U.S.C. Chapter 71 when necessary for the labor organization to perform properly its duties as the collective bargaining representative of PBGC employees in the bargaining unit.

G9. Routine Use-Disclosure in Response to a Federal Data Breach. A record from this system of records may be disclosed to appropriate agencies, entities, and persons when (1) PBGC suspects or has confirmed that the security or confidentiality of information in the system of records has been compromised; (2) PBGC has determined that as a result of the suspected or confirmed compromise there is a risk of harm to economic or property interests, identity theft or fraud, or harm to the security or integrity of this system or other systems or programs (whether maintained by the PBGC or another agency or entity) that rely upon the compromised information; and (3) the disclosure made to such agencies, entities, and persons is reasonably necessary to assist in connection with PBGC's efforts to respond to the suspected or confirmed compromise and prevent, minimize, or remedy such harm.

G10. Routine Use—Contractors, Experts, and Consultants. To contractors, experts, consultants, and the agents of thereof, and others performing or working on a contract, service, cooperative agreement, or other assignment for Pension Benefit Guaranty Corporation, (PBGC) when necessary to accomplish an agency function. Individuals provided information under this routine use are subject to the same Privacy Act requirements and limitations on disclosure as are applicable to PBGC employees.

G11. Routine Use—Records Management. To the National Archives and Records Administration or to the General Services Administration for records management inspections conducted under 44 U.S.C. 2904 and 2906.

G12. Routine Use—Gathering Information. To any source from which information is requested in the course of processing a grievance, investigation, arbitration, or other litigation, to the extent necessary to identify the individual, inform the source of the purpose(s) of the request, and identify the type of information requested.

G13. Routine Use—Disclosure to a Federal Agency. To disclose information to a Federal agency, in response to its request, in connection with hiring or retaining an employee, issuing a security clearance, conducting a security or suitability investigation of an individual, or classifying jobs, to the extent that the information is relevant and necessary to the requesting agency's decision on the matter.

PBGC-1

System name:

Correspondence Between the PBGC and Persons Outside the PBGC—PBGC.

System classification:

Not Applicable.

System location:

Pension Benefit Guaranty Corporation, 1200 K Street NW., Washington, DC 20005-4026 and Iron Mountain Inc., 8001 Research Way, Springfield, VA 22153.

Categories of individuals covered by the system:

Individuals who have corresponded with the PBGC and with components of the PBGC, and individuals who have received replies in response to their correspondence with the PBGC.

Categories of records in the system:

Correspondence containing the name and address of the correspondent. While PBGC-6, Participant and Beneficiary Records, contains direct correspondence from and to participants and beneficiaries, this system may also contain participant or beneficiary information included by other correspondents, such as a Member of Congress. This includes, but is not limited to, name, address, and social security number.

Authority for maintenance of the system:

29 U.S.C. 1302, 5 U.S.C. 301 and 44 U.S.C. 3101.

Purpose(s):

This system of records is maintained for programmatic and regulatory purposes (including use in adjudicatory proceedings).

Routine uses of records maintained in the system, including categories of users and the purposes of such uses:

General Routine Uses G1 through G11 (see Prefatory Statement of General Routine Uses) apply to this system of records.

Disclosure to consumer reporting agencies:

None.

Policies and practices for storing, retrieving, accessing, retaining, and disposing of records in the system:

Storage:

Records are maintained manually in file folders and/or in a variety of media, including, magnetic tapes or discs, and an automated database.

Retrievability:

Records are indexed by the name of the correspondent, plan name, or other personal identifier.

Safeguards:

Paper records are kept in file folders in areas of restricted access that are locked after office hours. Electronic records are stored on computer networks and protected by assigning user identification numbers to individuals needing access to the records and by passwords set by authorized users that must be changed periodically.

Retention and disposal:

Records relating to persons covered by this system are retained for 7 years Records are also maintained on PBGC's network back-up tapes.

Records existing on paper are destroyed by burning, pulping, or shredding. Records existing on computer storage media are destroyed according to the applicable PBGC media sanitization practice.

System manager(s) and address:

Correspondence is kept by the director of the department to which the correspondence was addressed or the director of the department who replied. These department directors are: General Counsel, Office of the General Counsel; Inspector General, Office of Inspector General; Chief Counsel, Office of Chief Counsel; Director, Policy and Research Department; Director, Communications and Public Affairs Department; Director, Legislative and Regulatory Department; Director, Financial Operations Department; Director, Budget and Organizational Performance Department; Director, Procurement Department; Director, Contract and Controls Review Department; Chief Information Officer, Office of Information Technology; Director, Corporate Finance and Restructuring; Director, Facilities and Services Department; Director, Human Resources Department; Director, Equal Employment Office; Director, Benefits Administration and Payment Department. Correspondence addressed to or replied to by the Office of the Director is kept by the Deputy Director of Operations. The PBGC's address is: 1200 K Street NW., Washington, DC 20005-4026.

Notification procedure:

Procedures are detailed in PBGC regulations: 29 CFR Part 4902.

Record access procedures:

Same as notification procedure.

Contesting record procedures:

Same as notification procedure.

Record source categories:

Individuals writing to the PBGC and the PBGC's responses.

Exemptions claimed for the system:

None.

PBGC-2

System name:

Disbursements—PBGC.

Security Classification:

Not applicable.

System Location:

Pension Benefit Guaranty Corporation, 1200 K Street NW., Washington, DC 20005-4026; PBGC, 1275 K Street NW Washington, DC 20005-4026; PBGC Benefit Service, 2500 Grubb Road, Suites 140 and 221, Wilmington, DE 19810; PBGC Document Management Center, 5971 Kingstowne Village Parkway, Alexandria, Virginia 2231.

Categories of individuals covered by the system:

Individuals who are consultants and vendors to the PBGC.

Categories of records in the systems:

Acquisition data for the procurement of goods and services. Consultant or vendor invoices. Payment vouchers, including SF 1082, name, address, and taxpayer identification number.

Authority for maintenance of the system:

29 U.S.C. 1302; 44 U.S.C. 3101.

Purpose(s):

This system of records is maintained for use in determining amounts to be paid and in effecting payments by the Department of the Treasury to consultants and vendors.

Routine uses of records maintained in the system, including categories of users and the purposes of such uses:

1. A record from this system of records may be transmitted to the United States Department of Treasury to effect payments to consultants and vendors.

2. General Routine Uses G1 through G7, G9 through G12 (see Prefatory Statement of General Routine Uses) apply to this system of records.

Disclosure to consumer reporting agencies:

Information may be disclosed to a consumer reporting agency in accordance with 31 U.S.C. 3711(f) (5 U.S.C. 552a(b)(12)).

Policies and practices for storing, retrieving, accessing, retaining, and disposing of records in the system:

Storage:

Records are maintained by PBGC manually in file folders and/or in electronic format, including computer databases, magnetic tapes, or discs.

Retrievability:

Records are indexed by name, tax payer identification number, and contract number.

Safeguards:

Records are kept in file cabinets in areas of restricted access that are locked after office hours. Electronic records are stored on computer networks and are protected by assigning user identification numbers to individuals needing access to the records and by passwords set by authorized users that must be changed periodically.

Retention and disposal:

Pursuant to PBGC's Simplified Records Schedule 1.2, PBGC retains the records for 7 years. Records may also be maintained on PBGC's network back-up tapes.

Records existing on paper are destroyed by burning, pulping, or shredding. Records existing on computer storage media are destroyed according to the applicable PBGC media sanitization practice.

System manager(s) and address:

Director, Financial Operation Department, Pension Benefit Guaranty Corporation, 1200 K Street NW., Washington, DC 20005-4026.

Notification procedure:

Procedures are detailed in PBGC regulations: 29 CFR Part 4902.

Record access procedures:

Same as notification procedure.

Contesting record procedures:

Same as notification procedure.

Record source categories:

Individuals who are consultants and vendors to the PBGC.

Exemptions claimed for the system:

None.

PBGC-3

System name:

Employee Payroll, Leave, and Attendance Records—PBGC.

Security classification:

Not applicable.

System location:

Pension Benefit Guaranty Corporation, 1200 K Street NW., Washington, DC 20005-4026.

Categories of individuals covered by the system:

Current and former employees of the PBGC.

Categories of records in the system:

Personnel Information:

Names; addresses; social security numbers and employee numbers; and notifications of personnel actions.

Payroll Information:

Co-owner and/or beneficiary of bonds; marital status and number of dependents; child support enforcement court orders; debts owed to PBGC by current and former employees; garnishments; personal bank account and direct deposit information; tax information; other deductions; salary data; pay period; and fiscal year data. Time and attendance records, including number of regular, overtime, holiday, and compensatory hours earned and used; compensatory travel time earned; earnings records; leave status and data, including leave requests, balances, and credits; jury duty data; and military leave data.

The records listed herein are included only as pertinent or applicable to the individual employee.

Authority for maintenance of the system:

29 U.S.C. 1302; 44 U.S.C. 3101; 5 U.S.C. 301.

Purpose(s):

This system of records is maintained to perform functions involving employee leave, attendance, and payments, including determinations relating to the amounts to be paid to employees, the distribution of pay according to employee directions (for savings bonds and allotments, to financial institutions, and for other authorized purposes), and tax withholdings and other authorized deductions, and for statistical purposes.

Routine uses of records maintained in the system, including categories of users and the purposes of such uses:

1. A record from this system of records may be disclosed to the United States Department of the Interior, the United States Department of Labor, and the United States Department of the Treasury to effect payments to employees.

2. Payments owed to PBGC through current and former employees may be shared with the Department of the Interior for the purposes of offsetting the employee's salary. Payments owed to PBGC through current and former employees who become delinquent in repaying the necessary funds may be shared with the Department of Treasury for the purposes of offsetting the employee's salary.

3. General Routine Uses G1 through G13 (see Prefatory Statement of General Routine Uses) apply to this system of records.

Disclosure to consumer reporting agencies:

Information may be disclosed to a consumer reporting agency in accordance with 31 U.S.C. 3711(f) (5 U.S.C. 552a(b)(12)).

Policies and practices for storing, retrieving, accessing, retaining, and disposing of records in the system:

Storage:

Records are maintained manually in file folders and/or in automated form, including computer databases, magnetic tapes, or discs. Records are also maintained on PBGC's network back-up tapes.

Retrievability:

Records are indexed by name and/or employee number or social security number.

Safeguards:

Manual records are kept in file cabinets in areas of restricted access that are locked after office hours. Electronic records are stored on computer networks and protected by assigning both network and system-specific user identification numbers to individuals needing access to the records and by passwords set by authorized users that must be changed periodically.

Retention and disposal:

Records are maintained for seven (7) years, as provided in National Archives and Records Administration General Records Schedule 2. Records are also maintained on PBGC's network back-up tapes.

System manager(s) and address:

Director, Financial Operations Department, Pension Benefit Guaranty Corporation, 1200 K Street NW., Washington, DC 20005-4026.

Notification procedure:

Procedures are detailed in PBGC regulations: 29 CFR Part 4902.

Record access procedures:

Same as notification procedure.

Contesting record procedures:

Same as notification procedure.

Record source categories:

Subject individual and the Office of Personnel Management.

Exemptions claimed for the system:

None.

PBGC-4

System name:

Employee Travel Records—PBGC.

System classification:

Not applicable.

System location:

Pension Benefit Guaranty Corporation, 1200 K Street NW., Washington, DC 20005-4026. Enterprise Services, 13600 Enterprise Services Drive, Herndon, VA 20171. Enterprise Services, 9701 S. John Young Parkway, Orlando, FL 32819.

Categories of individuals covered by the system:

Current, former, and prospective employees of the PBGC who have filed travel vouchers and related documents.

Categories of records in the system:

Names; addresses; social security numbers; employee number; travel authorizations; personal credit card numbers; credit scores; government travel credit cards; SmarTrip card information; parking pass information in connection with PBGC's subsidized parking program; vouchers; personal bank account information; and related documents filed by current, former, and prospective employees of the PBGC.

Authority for maintenance of the system:

5 U.S.C. 6701; 29 U.S.C. 1302; 44 U.S.C. 3101; 5 U.S.C. 301.

Purpose(s):

This system of records is maintained to perform functions related to travel on behalf of the PBGC, including determinations involving travel authorization and arrangements, and documentation of travel advances and reimbursements.

Routine uses of records maintained in the system, including categories of users and the purposes of such uses:

1. A record from this system of records may be disclosed to the United States Department of the Treasury to effect reimbursement of employees for travel expenses.

2. A record from this system of records may be disclosed to the Washington Metropolitan Area Transit Authority (WMATA) and other regional transit entities to process mass transit benefits for employees.

3. Payments owed to PBGC through current and former employees may be shared with the Department of the Interior for the purposes of offsetting the employee's salary. Payments owed to PBGC through current and former employees who become delinquent in repaying the necessary funds may be shared with the Department of Treasury for the purposes of offsetting the employee's salary.

4. To disclose information to a credit card company for billing purposes; to disclose information to a Federal agency for accumulating reporting data and monitoring the system; to disclose information to the agency by the contractor in the form of itemized statements of invoices, and reports of all transactions including refunds and adjustments to enable audits of charges to the Government; to disclose credit card information, phone numbers, addresses, etc., to airlines, hotels, car rental companies and other travel affiliated companies for the purpose of serving the client; and to disclose personal credit card information to hotels and car rental companies for the purpose of guaranteeing reservations.

5. General Routine Uses G1 through G13 (see Prefatory Statement of General Routine Uses) apply to this system of records.

Disclosure to consumer reporting agencies:

Information may be disclosed to a consumer reporting agency in accordance with 31 U.S.C. 3711(f) (5 U.S.C. 552a(b)(12)).

Policies and practices for storing, retrieving, accessing, retaining, and disposing of records in the system:

Storage:

Records are maintained by PBGC manually in file folders and/or in electronic format, including computer databases, magnetic tapes and discs. Records are also maintained on PBGC's network back-up tapes.

Retrievability:

Records are indexed by name, social security number, and travel authorization number.

Safeguards:

Records are kept in file cabinets in areas of restricted access that are locked after office hours. Electronic records are stored on computer network and protected by assigning both network and system-specific user identification numbers to individuals needing access to the records and by passwords set by authorized users that must be changed periodically.

Retention and disposal:

Records are maintained for seven (7) years, as provided in National Archives and Records Administration General Records Schedule 9. Records are also maintained on PBGC's network back-up tapes.

System manager(s) and address:

Director, Financial Operations Department, Pension Benefit Guaranty Corporation, 1200 K Street NW., Washington, DC 20005-4026.

Notification procedure:

Procedures are detailed in PBGC regulations: 29 CFR Part 4902.

Record access procedures:

Same as notification procedure.

Contesting record procedures:

Same as notification procedure.

Record source categories:

Current, former, and prospective PBGC employee vouchers.

Exemptions claimed for the system:

None.

PBGC-5

System name:

Personnel Records—PBGC.

System classification:

Not applicable.

System location:

Pension Benefit Guaranty Corporation, 1200 K Street NW., Washington, DC 20005-4026.

Categories of individuals covered by the system:

Employees, former employees, and applicants for employment with the PBGC.

Categories of records in the system:

Personnel records that the PBGC maintains that are not included in the permanent Official Personnel Folder (OPF) or Performance Management Folders (PMF). The OPF and PMF are maintained as a system of records by the Office of Personnel Management (OPM/GOVT-1 and OPM/GOVT-2) and are not included in this system of records.) Records pertaining to employee relations matters are also not included in this system of records, but are covered by PBGC-8.

Authority for maintenance of the system:

29 U.S.C. 1302; 44 U.S.C. 3101; 5 U.S.C. 301.

Purpose(s):

The purposes of the system of records include, but are not limited to: (1) Carrying out authorized personnel functions, including the evaluation of qualifications for merit staffing; (2) determinations about status, eligibility, and rights and benefits under pertinent laws and regulations governing federal employment; and computations of length of service; (3) maintaining current and historical personnel records and preparing individual administrative transactions relating to education and training; classification; assignment; career development; evaluation; promotion, compensation, separation, and retirement; making decisions on the rights, benefits, entitlements, and the utilization of individuals; providing a data source for the production of reports, statistical surveys, rosters, documentation, and studies required for the orderly personnel administration within PBGC; and (4) maintaining employment history.

Routine uses of records maintained in the system, including categories of users and the purposes of such uses:

General Routine Uses G1 through G13 (see Prefatory Statement of General Routine Uses) apply to this system of records.

Disclosure to consumer reporting agencies:

None.

Policies and practices for storing, retrieving, accessing, retaining, and disposing of records in the system:

Storage:

Records are maintained in paper form in file folders and/or in electronic form, including magnetic tapes and discs. Records are also maintained on network back-up tapes.

Retrievability:

Records are indexed by name.

Safeguards:

Access is restricted to agency personnel or contractors whose responsibilities require access. Paper records are kept in areas of restricted access that are locked after office hours. Electronic records are stored on computer networks and protected by assigning user identification numbers to individuals needing access to the records and by passwords set by authorized users that must be changed periodically.

Retention and disposal:

Temporary personnel file records are destroyed when superseded or obsolete, or upon separation or transfer of employee from PBGC. Applications for employment are destroyed after the receipt of an OPM inspection report or 2 years after date of application, whichever is sooner. Applications for training are destroyed 5 years after completion of a specific training program.

Records are also maintained on network back-up tapes.

System manager(s) and address:

Director, Human Resources Department, Pension Benefit Guaranty Corporation, 1200 K Street NW., Washington, DC 20005-4026.

Notification procedure:

Procedures are detailed in PBGC regulations: 29 CFR Part 4902.

Record access procedures:

Same as notification procedure.

Contesting record procedures:

Same as notification procedure.

Record source categories:

Subject individuals, present and past employers, and references given by any subject individuals.

Exemptions claimed for the system:

None.

PBGC-6

System name:

Plan Participant and Beneficiary Data—PBGC.

Security classification:

Not applicable.

System location:

Pension Benefit Guaranty Corporation, 1200 K Street NW., Washington, DC 20005-4026 and/or field benefit administrator, plan administrator, and paying agent worksites.

Categories of individuals covered by the system:

Participants, alternate payees, and beneficiaries in terminating and terminated pension plans covered by Title IV of the Employee Retirement Income Security Act of 1974, as amended (“ERISA”).

Categories of records in the system:

Names, addresses, telephone numbers, sex, social security numbers and other Social Security Administration information, dates of birth, dates of hire, salary, marital status, domestic relations orders, time of plan participation, eligibility status, pay status, benefit data, health-related information, insurance information where plan benefits are provided by private insurers, pension plan names and numbers, and initial and final PBGC determinations (29 CFR 4003.21 and 4003.59). The records listed herein are included only as pertinent or applicable to the individual plan participant, alternate payee, or beneficiary.

Authority for maintenance of the system:

29 U.S.C. 1055, 1056(d)(3), 1302, 1321, 1322, 1322a, 1341, 1342 and 1350; 26 U.S.C. 6103; 44 U.S.C. 3101.

Purpose(s):

This system of records is maintained for use in determining whether participants, alternate payees, and beneficiaries are eligible for benefits under plans covered by Title IV of ERISA, the amounts of benefits to be paid, making benefit payments, and collecting benefit overpayments. Names, addresses, and telephone numbers are used to survey customers to measure their satisfaction with the PBGC's benefit payment services and to track (for follow-up) those who do not respond to surveys.

Routine uses of records maintained in the system, including categories of users and the purposes of such uses:

1. A record from this system of records may be disclosed to third parties, such as banks, insurance companies, or trustees, to enable these third parties to make or determine benefit payments to plan participants and beneficiaries, and to report to the IRS the amounts of benefit payments and taxes withheld.

2. A record from this system of records may be disclosed, in furtherance of proceedings under Title IV of ERISA, to a contributing sponsor (or other employer who maintained the plan), including any predecessor or successor, and any member of the same controlled group.

3. A record from this system of records may be disclosed, upon request for a purpose authorized under Title IV of ERISA, to an official of a labor organization recognized as the collective bargaining representative of the individual about whom a request is made.

4. Payees' names, addresses, and telephone numbers and information pertaining to debts owed by such payees to the PBGC may be disclosed to the Treasury Department or a debt collection agency or firm to collect a claim. Disclosure to a debt collection agency or firm shall be made only under a contract that binds any such contractor or employee of such contractor to the criminal penalties of the Privacy Act. The information so disclosed shall be used exclusively pursuant to the terms and conditions of such contract and shall be used solely for the purposes prescribed therein. The contract shall provide that the information so disclosed shall be returned at the conclusion of the debt collection effort.

5. The name and social security number of a participant employed or formerly employed as a pilot by a commercial airline may be disclosed to the Federal Aviation Administration (“FAA”) to obtain information relevant to the participant's eligibility or continued eligibility for disability benefits.

6. The name of a participant's pension plan, the actual or estimated amount of a participant's benefit under Title IV of ERISA, the form(s) in which the benefit is payable, and whether the participant is currently receiving benefit payments under the plan or (if not) the earliest date(s) such payments could commence may be disclosed to the participant's spouse, former spouse, child, or other dependent solely to obtain a qualified domestic relations order under 29 U.S.C. 1056(d) and 26 U.S.C. 414(p). The PBGC will disclose the information only upon the receipt of a notarized, written request by a prospective alternate payee, or their representative, that describes the requester's relationship to the participant and states that the information will be used solely to obtain a qualified domestic relations order under state domestic relations law. The PBGC will notify the participant of any information disclosed to a prospective alternate payee or their representative under this routine use. Any person who knowingly and willfully requests or obtains any record concerning an individual under false pretenses is subject to a criminal penalty under 5 U.S.C. 552a(i)(3).

7. Information from a participant's initial determination under 29 CFR 4003.1(b) (excluding the participant's address, telephone number, social security number, and any sensitive medical information) may be disclosed to an alternate payee, or their representative, under a qualified domestic relations order issued pursuant to 29 U.S.C. 1056(d) and 26 U.S.C. 414(p) to explain how the PBGC determined the benefit due the alternate payee so that the alternate payee can pursue an administrative appeal of the benefit determination under 29 CFR 4003.51. The PBGC will notify the participant of the information disclosed to an alternate payee or their representative under this routine use.

8. The names, addresses, social security numbers, dates of birth, and the pension plan name and number of eligible PBGC pension recipients may be disclosed to the Department of Treasury and the Department of Labor to implement the income tax credit for health insurance costs under 26 U.S.C. 35 and the program for advance payment of the tax credit under 26 U.S.C. 7527.

9. The names, addresses, social security numbers, and dates of birth of eligible PBGC pension recipients residing in a particular state may be disclosed to the state's workforce agency if the agency received a National Emergency Grant from the Department of Labor under the Workforce Investment Act of 1988 to provide health insurance coverage assistance and support services for state residents under 29 U.S.C. 2918(a) and (f).

10. Payees' name, social security number, and date of birth may be provided to the Department of Treasury's Bureau of the Public Debt to verify payees' eligibility to receive payments.

11. Payees' name, social security number, and date of birth may be provided to the Social Security Administration to verify payees' eligibility to receive payments.

12. General Routine Uses G1 and G4 through G7, G9, and G13 (see Prefatory Statement of General Routine Uses) apply to this system of records.

Disclosure to consumer reporting agencies:

Information may be disclosed to a consumer reporting agency in accordance with 31 U.S.C. 3711(f) (5 U.S.C. 552a(b)(12)).

Policies and practices for storing, retrieving, accessing, retaining, and disposing of records in the system:

Storage:

Records are maintained in paper, microfiche, and electronic form.

Retrievability:

Records are indexed by plan name and number, and participant and/or beneficiary name. Customer satisfaction survey responses are aggregated for statistical purposes after they have been received by the PBGC and are not retrievable by a participant or beneficiary's name or other assigned identifier.

Safeguards:

Paper and microfiche records are kept in file folders in areas of restricted access that are locked after office hours. Electronic records are stored on computer networks and protected by assigning user identification numbers to individuals needing access to the records and by passwords set by authorized users that must be changed periodically.

Retention and disposal:

Records for participants in a particular plan are destroyed 7 years after all payments have been made to all participants, beneficiaries, and alternate payees associated with that plan. Records existing on paper or microfiche are destroyed by shredding. Records existing on other media and computer storage media are destroyed according to the applicable PBGC Information Assurance Handbook guidance on media sanitization practice.

System manager(s) and address:

Director, Benefit Administration and Payments Department, Pension Benefit Guaranty Corporation, 1200 K Street NW., Washington, DC 20005-4026.

Notification procedure:

Procedures are detailed in the PBGC's regulations: 29 CFR Part 4902.

Record access procedures:

Same as notification procedure.

Contesting records procedure:

Same as notification procedure.

Record source categories:

Plan administrators, participants, alternate payees, and beneficiaries, the FAA, SSA, and Treasury.

Exemptions claimed for the system:

None.

PBGC-8

System name:

Employee Relations Files—PBGC.

System classification:

Not applicable.

System location:

Pension Benefit Guaranty Corporation, 1200 K Street NW., Washington, DC 20005-4026.

Categories of individuals covered by the system:

Current and former PBGC employees with respect to whom the PBGC has initiated a reduction-in-force or a disciplinary or performance-based action; and, PBGC employees who have initiated grievances under an administrative grievance procedure or under an applicable collective bargaining agreement.

Categories of records in the system:

Notices of furloughs, reductions-in-force or disciplinary or performance-based actions and employees' replies to such notices; employees' notices of grievance and appeal; investigative reports; records of proceedings; appeal decisions; last chance, last rights, and settlement agreements, and related information. These records may include the following personal information: name, Social Security number, date of birth, and addresses. (See also a system of records notice published the Office of Personnel Management (“OPM”) (OPM/GOVT-3))

Authority for maintenance of the system:

29 U.S.C. 1302; 44 U.S.C. 3101.

Purpose(s):

The purpose of this system is to document all current and former PBGC personnel who have been the subject of proposed or final disciplinary or performance action, furlough, or reductions-in force, have filed a grievance or appeal, or have been suspected of misconduct.

Routine uses of records maintained in the system, including categories of users and the purposes of such uses:

1. A record from this system of records may be disclosed to OPM, the Merit Systems Protection Board, the Federal Labor Relations Authority, Office of Special Counsel, or the Equal Employment Opportunity Commission to carry out its authorized functions (under 5 U.S.C. 1103, 1204, 7105, and 42 U.S.C. 2000e-4, in that order).

2. General Routine Uses G1 through G13 (see Prefatory Statement of General Routine Uses) apply to this system of records.

Disclosure to consumer reporting agencies:

None.

Policies and practices for storing, retrieving, accessing, retaining, and disposing of records in the system:

Storage:

Records are maintained in paper form in file folders and/or in electronic form, including magnetic tapes or discs.

Retrievability:

Records are indexed by employee name.

Safeguards:

Access is restricted to agency personnel or contractors whose responsibilities require access. Paper records are kept in areas of restricted access that are locked after office hours. Electronic records are stored on computer networks and protected by assigning user identification numbers to individuals needing access to the records and by passwords set by authorized users that must be changed periodically.

Retention and disposal:

Registers and related records used to effect reduction-in-force actions are maintained for 2 years. Records relating to grievances raised by employees, except Equal Employment Opportunity complaints, are maintained for 7 years after the close of the matter. Records related to disciplinary or performance based actions are maintained for 7 years.

Records are also maintained on PBGC's network back-up tapes.

Records existing on paper are destroyed by burning, pulping, or shredding. Records existing on computer storage media are destroyed according to the applicable PBGC media sanitization practice.

System manager(s) and address:

Director, Human Resources Department, Pension Benefit Guaranty Corporation, 1200 K Street NW., Washington, DC 20005-4026.

Notification procedure:

Procedures are detailed in PBGC regulations: 29 CFR Part 4902.

Record access procedures:

Same as notification procedure.

Contesting record procedures:

Same as notification procedure.

Record source categories:

Records in this system of records are provided by an affected employee, the employee's supervisors, the employee's representative, other PBGC employees, and from investigations and interviews.

Exemptions claimed for the system:

None.

PBGC-9

System name:

Plan Participant and Beneficiary Address Identification File—PBGC.

System classification:

Not applicable.

System location:

Pension Benefit Guaranty Corporation, 1200 K Street NW., Washington, DC 20005-4026.

Categories of individuals covered by the system:

Certain participants, alternate payees, and beneficiaries in terminating and terminated pension plans covered by Title IV of the Employee Retirement Income Security Act of 1974, as amended.

Categories of records in the system:

Names, social security numbers, addresses, email addresses, telephone numbers, pension plans names, and pension plan numbers.

Authority for maintenance of the system:

29 U.S.C. 1055, 1056(d)(3), 1302, 1321, 1322, 1322a, 1341, 1342, and 1350; 44 U.S.C. 3101.

Purpose(s):

This system of records is maintained to locate participants, alternate payees, and beneficiaries under pension plans covered by Title IV of ERISA.

Routine uses of records maintained in the system, including categories of users and the purposes of such uses:

1. Names and social security numbers of plan participants and beneficiaries may be disclosed to the Internal Revenue Service (“IRS”) to obtain current addresses from tax return information and to the Social Security Administration (“SSA”) to obtain current addresses. Such information will be disclosed only if the PBGC has no address for an individual or if mail sent to the individual at the last known address is returned as undeliverable.

2. Names and last known addresses may be disclosed to an official of a labor organization recognized as the collective bargaining representative of participants for posting in union halls or for other means of publication to obtain current addresses of participants and beneficiaries. Such information will be disclosed only if the PBGC has no address for an individual or if mail sent to the individual at the last known address is returned as undeliverable.

3. Names, social security numbers, last known addresses, and dates of birth and death may be disclosed to private firms and agencies that provide locator services, including credit reporting agencies and debt collection firms or agencies, to locate participants and beneficiaries. Such information will be disclosed only if the PBGC has no address for an individual or if mail sent to the individual at the last known address is returned as undeliverable. Disclosure shall be made only under a contract that subjects the firm or agency providing the service and its employees to the criminal penalties of the Privacy Act. The information so disclosed shall be used exclusively pursuant to the terms and conditions of such contract and shall be used solely for the purposes prescribed therein. The contract shall provide that the information so disclosed shall be returned at the conclusion of the locating effort.

4. Names and addresses may be disclosed to licensees of the United States Postal Service (“USPS”) to obtain current addresses under the USPS's National Change of Address Linkage System (NCOA Link). Disclosure shall be made only under a contract that binds the licensee of the Postal Service and its employees to the criminal penalties of the Privacy Act. The contract shall provide that the records disclosed by PBGC shall be used exclusively for updating addresses under NCOA Link and must be returned to PBGC or destroyed when the process is completed. The records will be exchanged electronically in an encrypted format.

5. Names and last known addresses may be disclosed to other participants in, and beneficiaries under, a pension plan to obtain the current addresses of individuals. Such information will be disclosed only if the PBGC has no address for an individual or if mail sent to the individual at the last known address is returned as undeliverable.

6. Names and last known addresses of participants and beneficiaries, and the names and addresses of participants' former employers, may be disclosed to the public to obtain current addresses of the individuals. Such information will be disclosed to the public only if the PBGC is unable to make benefit payments to the participants and beneficiaries because the address it has does not appear to be current or correct.

7. General Routine Uses G1 and G4 through G7, G9 through G11 (see Prefatory Statement of General Routine Uses) apply to this system of records.

Disclosure to consumer reporting agencies:

None.

Policies and practices for storing, retrieving, accessing, retaining, and disposing of records in the system:

Storage:

Records are maintained manually in file folders and/or in electronic form, including magnetic tapes or discs.

Retrievability:

Records are indexed by participant or beneficiary name and social security number.

Safeguards:

Records are kept in locked file cabinets in areas of restricted access under procedures that meet IRS safeguarding standards. Electronic records are stored on computer networks and protected by assigning user identification numbers to individuals needing access to the records and by passwords set by authorized users that must be changed periodically.

Retention and disposal:

Records of a participant or beneficiary who verifies the address are transferred to PBGC-6. All other records are retained for 2 years.

Records existing on paper are destroyed by burning, pulping, or shredding. Records existing on computer storage media are destroyed according to the applicable PBGC media sanitization practice.

System manager(s) and address:

Director, Benefits Administration and Payments Department, Pension Benefit Guaranty Corporation, 1200 K Street NW., Washington, DC 20005-4026.

Notification procedure:

Procedures are detailed in PBGC regulations: 29 CFR Part 4902.

Record access procedures:

Same as notification procedure.

Contesting record procedures:

Same as notification procedure.

Record source categories:

PBGC-6, the SSA, the IRS, the public, labor organization officials, firms or agencies providing locator services, and USPS licensees.

Exemptions claimed for the system:

None.

PBGC-10

System name:

Administrative Appeals File—PBGC.

System classification:

Not applicable.

System location:

Pension Benefit Guaranty Corporation, 1200 K Street NW., Washington, DC 20005-4026.

Categories of individuals covered by the system:

Participants, beneficiaries, and alternate payees in terminated pension plans covered by Title IV of the Employee Retirement Income Security Act of 1974, as amended, who have filed administrative appeals with the PBGC's Appeals Board pursuant to 29 CFR 4003.1(b),, (6), (7), (8), or (10), Rules for Administrative Review of Agency Decisions.

Categories of records in the system:

Names of pension plans, plan numbers, names of participants, beneficiaries, and alternate payees, and personal information such as addresses, social security numbers, sex, dates of birth, dates of hire, salary, marital status (including domestic relations orders), medical records, dates of commencement of plan participation or employment, statements regarding employment, dates of termination of plan participation or retirement, benefit payment data, pay status, Social Security Administration (“SSA”) information, insurance claims and awards, workman's compensation awards, calculations of benefit amounts, calculations of amounts subject to recoupment and/or recovery correspondence and other information relating to appeals, and initial and final PBGC determinations (29 CFR 4003.22 and 4003.59). The records listed herein are included only as pertinent or applicable to the individual participant, beneficiary, and/or alternate payee.

Authority for maintenance of the system:

29 U.S.C. 1055, 1056(d)(3), 1302, 1321, 1322, 1322a, 1341, 1342, 1345, and 1350.

Purpose(s):

This system of records is maintained for use in appeals of matters specified in 29 CFR 4003.1(b),, (6), (7), (8), and (10) and in subsequent agency actions.

Routine uses of records maintained in the system, including categories of users and the purposes of such uses:

1. General Routine Uses G1, and G4 through G12 apply to this system of records.

2. A record from this system of records may be disclosed to third parties who may be aggrieved by the decision of the Appeals Board under 29 CFR 4003.57.

3. A record from this system of records may be disclosed, upon request, to an attorney representative or a non-attorney representative who has a power of attorney for the subject individual, under 29 CFR 4003.6.

4. A record from this system of records may be disclosed to third parties, such as banks, insurance companies, and trustees, to make benefit payments to plan participants, beneficiaries, and/or alternate payees.

5. A record from this system of records may be disclosed to third parties, such as contractors and expert witnesses, to obtain expert analysis of an issue necessary to resolve an appeal.

6. The name and social security number of a participant may be disclosed to an official of a labor organization recognized as the collective bargaining representative of the participant to obtain information relevant to the resolution of an appeal.

Disclosure to consumer reporting agencies:

None.

Policies and practices for storing, retrieving, accessing, retain and disposing of records in the system:

Storage:

Records are maintained manually in file folders and/or in electronic form.

Retrievability:

Records are indexed by participant, beneficiary, and/or alternate payee's name, plan name, and appeal number or extension request number.

Safeguards:

Paper records are kept in file folders in areas of restricted access that are locked after office hours. Electronic records are stored on computer networks and protected by assigning user identification numbers to individuals needing access to the records and by passwords set by authorized users that must be changed periodically.

Retention and disposal:

Records are retained and disposed of in accordance with the PBGC's Administrative Schedule 1.8. Appeals Board files are transferred to an offsite storage facility at 2 years after the end of the year the matter was closed and destroyed 15 years after the end of the fiscal year that the matter was closed.

Records existing on paper are destroyed by burning, pulping, or shredding. Records existing on computer storage media are destroyed according to the applicable PBGC media sanitization practice.

System manager(s) and address:

Manager of the Appeals Division, Office of the General Counsel, Pension Benefit Guaranty Corporation, 1200 K Street NW., Washington, DC 20005-4026.

Notification procedure:

Procedures are detailed in PBGC regulations: 29 CFR Part 4902.

Record access procedures:

Same as notification procedure.

Contesting record procedures:

Same as notification procedure.

Record source categories:

Information in this system of records may be received from the plan administrator; the contributing sponsor (or other employer who maintained the plan), including any predecessor, successor, or member of the same controlled group; the labor organization recognized as the collective bargaining representative of a participant; the SSA; a third party affected by the decision; or the participant, beneficiary and/or alternate payee.

Exemptions claimed for the system:

None.

PBGC-11

System name:

Call Detail Records—PBGC.

System classification:

Not applicable.

System location:

Pension Benefit Guaranty Corporation, 1200 K Street NW., Washington, DC 20005-4026.

Categories of individuals covered by the system:

Employees, contract employees, PBGC consultants, and officials of a labor organization representing PBGC employees who have made long distance or other toll calls from PBGC telephones or PBGC-issued portable electronic devices.

Categories of records in the system:

Records relating to the use of PBGC telephones and PBGC-issued portable electronic devices to place toll calls and receive calls; records indicating the assignment of telephone extension numbers and PBGC-issued portable electronic devices to PBGC employees and other covered individuals; and records relating to the location of telephone extension numbers.

Authority for maintenance of the system:

29 U.S.C. 1302; 44 U.S.C. 3101.

Purpose(s):

This system of records is maintained to control the costs of operating PBGC's telephone system by, among other things, monitoring telephone usage by PBGC employees and other covered individuals and obtaining reimbursement for unauthorized toll calls.

Routine uses of records maintained in the system, including categories of users and the purposes of such uses:

1. A record from this system of records may be disclosed to PBGC and contract employees, consultants of PBGC, and officials of a labor organization representing PBGC employees to determine individual responsibility for telephone calls, but only to the extent that such disclosures consist of comprehensive lists of called numbers and length of calls.

2. Names, addresses, and telephone numbers of employees, former employees, participants, and beneficiaries and information pertaining to debts to the PBGC may be disclosed to the Department of Treasury, the Department of Justice, a credit agency, and a debt collection firm to collect the debt. Disclosure to a debt collection firm shall be made only under a contract that binds any such contractor or employee of such contractor to the criminal penalties of the Privacy Act.

3. General Routine Uses G1, G3, G4, G5, G7 through G13 (see Prefatory Statement of General Routine Uses) apply to this system of records.

Disclosure to consumer reporting agencies:

Information may be disclosed to a consumer reporting agency in accordance with 31 U.S.C. 3711(e) and (5 U.S.C. 552a(b)(12)).

Policies and practices for storing, retrieving, accessing, retaining, and disposing of records in the system:

Storage:

Records are maintained in file folders and in electronic form, including magnetic tapes and discs.

Retrievability:

Records are retrieved by name of employee or other covered individual, telephone extension number, PBGC-issued portable electronic device number, or telephone number called.

Safeguards:

Access is restricted to agency personnel or contractors whose responsibilities require access. Paper records are kept in areas of restricted access that are locked after office hours. Electronic records are stored on computer networks and protected by assigning user identification numbers to individuals needing access to the records and by passwords set by authorized users that must be changed periodically.

Retention and disposal:

Records are retained for 7 years from the end of the fiscal year in which they were created in accordance with the PBGC's Administrative Schedule 1.7. Records are also maintained on PBGC's network back-up tapes. Records existing on paper are destroyed by burning, pulping, or shredding. Records existing on computer storage media are destroyed according to the applicable PBGC media sanitization practice.

System manager(s) and address:

Chief Information Officer, Office of Information Technology, Pension Benefit Guaranty Corporation, 1200 K Street NW., Washington, DC 20005-4026.

Notification procedure:

Procedures are detailed in PBGC regulations: 29 CFR Part 4902.

Record access procedures:

Same as notification procedure.

Contesting record procedures:

Same as notification procedure.

Record source categories:

Telephone and PBGC-issued portable electronic device assignment records; call detail listings; and private telephone billing information.

Exemptions claimed for the system:

None.

PBGC-12

System name:

Personnel Security Investigation Records—PBGC.

Security classification:

Not applicable.

System location:

Pension Benefit Guaranty Corporation, 1200 K Street NW., Washington, DC 20005-4026.

Categories of individuals covered by the system:

Individuals who require regular, ongoing access to federal facilities, information technology systems, or information classified in the interest of national security, including applicants for employment or contracts, federal employees, contractors, students, interns, volunteers, individuals authorized to perform or use services provided in Agency facilities (e.g., Fitness Center, etc.), and individuals formerly in any of these positions. The system also includes individuals accused of security violations or found in violation.

Categories of records in the system:

Name, former names, birth date, birth place, home address, phone numbers, employment history, residential history, education and degrees earned, names of associates and references and their contact information, citizenship, names of relatives, birthdates and places of relatives, citizenship of relatives, names of relatives who work for the federal government, criminal history, mental health history, drug use, financial information, fingerprints, summary report of investigation, results of suitability decisions, level of security clearance, date of issuance of security clearance, requests for appeal, witness statements, investigator's notes, tax return information, credit reports, security violations, circumstances of violation, and agency action taken.

Forms:

SF-85, SF-85P, SF-86, SF-87 (via eQIP).

This system of records is distinct from the OPM's Privacy Act system of records, OPM/Central-9 (Personnel Investigation Records), which covers records of personnel security investigations conducted by the OPM with respect to employees or applicants for employment with the PBGC.

Authority for maintenance of the system:

29 U.S.C. 1302; 5 U.S.C. 3301; 44 U.S.C. 3101; Executive Order 10450; 5 CFR 5.2(c) and (d); 5 CFR parts 731 and 736; OMB Circular No. A-130—Revised, Appendix III, 61 FR 6428; and Homeland Security Presidential Directive 12.

Purpose(s):

The records in this system of records are used to document and support decisions as to the suitability, eligibility, and fitness for service of applicants for federal employment and contract positions, and may include students, interns, or volunteers to the extent their duties require access to federal facilities, information, systems, or applications. They may also be used to document security violations and supervisory actions taken.

Routine uses of records maintained in the system, including categories of users and the purposes of such uses:

1. A record from this system of records may be disclosed to an authorized source from which information is requested in the course of an investigation, to the extent necessary to identify the individual, inform the source of the nature and purpose of the investigation, or identify the type of information requested.

2. A record from this system of records may be disclosed to OPM, the Merit Systems Protection Board, the Federal Labor Relations Authority, or the Equal Employment Opportunity Commission to carry out its authorized functions (under 5 U.S.C. 1103, 1204, and 7105, and 42 U.S.C. 2000e-4, in that order).

3. General Routine Uses G1 through G13 (see Prefatory Statement of General Routine Uses) apply to this system of records.

Disclosure to consumer reporting agencies:

None.

Policies and practices for storing, retrieving, accessing, retaining, and disposing of records in the system:

Storage:

Records are maintained in paper and electronic form, including magnetic tapes and discs.

Retrievability:

Records are retrieved by name, Social Security number, or fingerprint.

Safeguards:

Paper records are kept in file cabinets in areas of restricted access that are locked after office hours. Electronic records are stored on computer networks and protected by assigning both network and system-specific user identification numbers to individuals needing access to the records and by passwords set by authorized users that must be changed periodically.

Retention and disposal:

Records are destroyed upon notification of death or not later than 5 years after separation or transfer of employee, or no later than 5 years after contract relationship expires, whichever is applicable.

Records are also maintained on PBGC's network back-up tapes.

System manager(s) and address:

Director, Facilities and Services Department, Pension Benefit Guaranty Corporation, 1200 K Street NW., Washington, DC 20005-4026.

Notification procedure:

Procedures are detailed in PBGC regulations: 29 CFR Part 4902.

Record access procedures:

Same as notification procedure.

Contesting record procedures:

Same as notification procedure.

Record source categories:

Information contained in this system of records is obtained from the following: (a) Applications and other personnel and security forms; (b) personal interviews with the individual that is the subject of the investigation and with persons such as employers, references, neighbors, and associates who may have information about the subject of the investigation; (c) investigative records and notices of personnel actions furnished by other federal agencies; (d) sources such as educational institutions, police departments, credit bureaus, probation officials, prison officials, and doctors; (e) public records such as court filings and publications such as newspapers, magazines, and periodicals; and (f) tax records.

Exemptions claimed for the system:

This system of records is exempt from the access and contest and certain other provisions of the Privacy Act (5 U.S.C. 552a(c)(3), (d), (e)(1), (e)(4)(G) through (I), and (f)) to the extent that disclosure would reveal the identity of a source who furnished information to the PBGC under an express promise of confidentiality or, prior to September 27, 1975, under an implied promise of confidentiality (5 U.S.C. 552a(k)(5)).

PBGC-13

System name:

Debt Collection—PBGC.

Security classification:

Not applicable.

System location:

Pension Benefit Guaranty Corporation, 1200 K Street NW., Washington, DC 20005-4026 and/or field benefit administrator, and plan administrator, to include the following locations: 1275 K Street NW., Washington, DC 20005-4026; COOP Site, 2500 Grubb Road, Suites 140 and 221, Wilmington, DE 19810; and Kingstowne, 5971 Kingstowne Village Parkway, Alexandria, Virginia 22315.

Categories of individuals covered by the system:

Anyone who may owe a debt to PBGC, including but not limited to: pension plans and/or sponsors owing insurance premiums, interest and penalties; employees and former employees of PBGC; individuals who are consultants and vendors to PBGC; participants, alternate payees, and beneficiaries in terminating and terminated pension plans covered by Title IV of the Employee Retirement Income Security Act of 1974, as amended (ERISA); and individuals who received payments to which they are not entitled.

Categories of records in the system:

Pension plan filings; names; addresses; social security numbers; taxpayer identification numbers; employee numbers; pay records, travel vouchers, and related documents filed by PBGC employees; invoices filed by consultants and vendors to PBGC; records of benefit payments made to participants, alternate payees, and beneficiaries in terminating and terminated pension plans covered by Title IV of ERISA; and other relevant records relating to the debt including the amount, status, and history of the debt, and the program under which the debt arose. The records listed herein are included only as pertinent or applicable to the individual debtor.

Authority for maintenance of the system:

29 U.S.C. 1302; 31 U.S.C. 3711(e) & (g); 44 U.S.C. 3101.

Purpose(s):

This system of records is maintained for the purpose of collecting debts owed to PBGC by various individuals, including, but not limited to, pension plans and/or sponsors owing insurance premiums, interest and penalties; PBGC employees and former employees, consultants and vendors; participants, alternate payees, and beneficiaries in terminating and terminated pension plans covered by Title IV of ERISA; and individuals who received payments to which they are not entitled. This system facilitates PBGC's compliance with the Debt Collection Improvement Act of 1996.

Routine uses of records maintained in the system, including categories of users and the purposes of such uses:

1. A record from this system of records may be disclosed to the United States Department of the Treasury for cross-servicing to effect debt collection in accordance with 31 U.S.C. 3711(e).

2. Names, addresses, and telephone numbers of employees, participants, and beneficiaries and information pertaining to debts owed by such individuals to the PBGC may be disclosed to a debt collection agency or firm to collect a claim. Disclosure to a debt collection agency or firm shall be made only under a contract that binds any such contractor or employee of such contractor to the criminal penalties of the Privacy Act. The information so disclosed shall be used exclusively pursuant to the terms and conditions of such contract and shall be used solely for the purposes prescribed therein. The contract shall provide that the information so disclosed shall be returned at the conclusion of the debt collection effort.

3. These records may be used to disclose information to any Federal agency, state or local agency, U.S. territory or commonwealth, or the District of Columbia, or their agents or contractors, including private collection agencies (consumer and commercial):

a. To facilitate the collection of debts through the use of any combination of various debt collection methods required or authorized by law, including, but not limited to;

i. Request for repayment by telephone or in writing;

ii. Negotiation of voluntary repayment or compromise agreements;

iii. Offset of Federal payments, which may include the disclosure of information contained in the records for the purpose of providing the debtor with appropriate pre-offset notice and to otherwise comply with offset prerequisites, to facilitate voluntary repayment in lieu of offset, and to otherwise effectuate the offset process;

iv. Referral of debts to private collection agencies, to Treasury designated debt collection centers, or for litigation;

v. Administrative and court-ordered wage garnishment;

vi. Debt sales;

vii. Publication of names and identities of delinquent debtors in the media or other appropriate places; and

viii. Any other debt collection method authorized by law;

b. To collect a debt owed to the United States through the offset of payments made by states, territories, commonwealths, or the District of Columbia;

c. To account or report on the status of debts for which such entity has a financial or other legitimate need for the information in the performance of official duties; or,

d. For any other appropriate debt collection purpose.

4. General Routine Uses G1 through G13 (see Prefatory Statement of General Routine Uses) apply to this system of records.

Disclosure to consumer reporting agencies:

Information may be disclosed to a consumer reporting agency in accordance with 31 U.S.C. 3711(e) and 5 U.S.C. 552a(b)(12).

Policies and practices for storing, retrieving, accessing, retaining, and disposing of records in the system:

Storage:

Records are maintained by PBGC in paper and/or electronic form, including computer databases, magnetic tapes or discs.

Retrievability:

Records are indexed by any one or more of the following: Employer identification number; social security number; plan number; and name of debtor, plan, plan sponsor, plan administrator, participant, alternate payee, or beneficiary.

Safeguards:

Access is restricted to agency personnel or contractors whose responsibilities require access. Paper records are kept in file folders in areas of restricted access that are locked after office hours. Electronic records are stored on computer networks and protected by assigning user identification numbers to individuals needing access to the records and by passwords set by authorized users that must be changed periodically.

Retention and disposal:

Pursuant to PBGC Records Schedule 1.2, records relating to the debts of consultants and vendors are maintained for 7 years from the close of the fiscal year in which the date the debt is resolved (paid in full, waived, etc.).

Pursuant to PBGC's Records Schedule 1.2, records relating to debts of PBGC employees and former employees involving payroll, leave, attendance, and travel are maintained for 7 years from the close of the fiscal year in which the date the debt is resolved (paid in full, waived, etc.).

Pursuant to PBGC Records Schedule 2.1, except for repayment agreements and copies of payment advice, records relating to debts of participants and beneficiaries in terminating and terminated pension plans covered by Title IV of ERISA are maintained for 7 years from the close of the fiscal year in which the date the debt is resolved (paid in full, waived, etc.).

Pursuant to PBGC Records Schedule 1.2, records relating to debts of other individuals are maintained for 7 years from the close of the fiscal year in which the debt is resolved (paid in full, waived, etc.).

Records are also maintained on PBGC's network back-up tapes.

Records existing on paper are destroyed by burning, pulping, or shredding. Records existing on computer storage media are destroyed according to the applicable PBGC media sanitization practice.

System manager(s) and address:

Director, Financial Operations Department, and Director, Benefits Administration and Payments Department, Pension Benefit Guaranty Corporation, 1200 K Street NW., Washington, DC 20005-4026.

Notification procedure:

Procedures are detailed in PBGC regulations: 29 CFR Part 4902.

Record access procedures:

Same as notification procedure.

Contesting record procedures:

Same as notification procedure.

Record source categories:

Subject individual, plan administrators, labor organization officials, Debt collection agencies, or firms, firms or agencies providing locator services, other PBGC offices, and other Federal agencies.

Exemptions claimed for the system:

None.

PBGC-14

System name:

My Plan Administration Account Authentication Records—PBGC.

Security classification:

Not applicable.

System location:

Pension Benefit Guaranty Corporation, 1200 K Street NW., Washington, DC 20005-4026.

Categories of individuals covered by the system:

Individuals who register to use the My PAA application to make PBGC filings and payments electronically via the PBGC's Internet Web site (www.pbgc.gov), including individuals acting for plan sponsors, plan administrators, and pension practitioners such as enrolled actuaries and other benefit professionals.

Categories of records in the system:

Records include the user's name, work telephone number, work email address, other contact information, a temporary PBGC-issued user ID and password, a user-selected user ID and password, and a secret question/secret answer combination for authentication. Records maintained for each pension plan for which the user intends to participate in making filings with the PBGC include the plan name, employer identification number (EIN), and plan number (PN); the plan administrator's name, address, phone number, and email address; other contact information; and the role that the user will play in the filing process, e.g., creating and editing filings, signing filings electronically as the plan administrator, signing filings electronically as the enrolled actuary, or authorizing payments to the PBGC.

Authority for maintenance of the system:

29 U.S.C. 1302, 1306, 1307, 1341, and 1343; 44 U.S.C. 3101.

Purpose(s):

This system of records is maintained for use in verifying the identity of, and authenticating actions taken by, individuals who register to use the My PAA application to make PBGC filings.

Routine uses of records maintained in the system, including categories of users and the purposes of such uses:

PBGC General Routine Uses G1, G4, G5, G6, G7, G9, G10, and G12 apply to this system of records (See Prefatory Statement of General Routine Uses).

Disclosure to consumer reporting agencies:

None.

Policies and practices for storing, retrieving, accessing, retaining, and disposing of records in the system:

Storage:

Records are maintained in electronic form, including computer databases, magnetic tapes and discs.

Retrievability:

Records are indexed by name, user ID, email address, telephone number, and by plan name and EIN/PN.

Safeguards:

The PBGC has adopted appropriate administrative, technical, and physical controls in accordance with the PBGC's Automated Information Systems Security Program to protect the security, integrity, and availability of the information, and to assure that records are not disclosed to unauthorized individuals.

Retention and disposal:

Pursuant to PBGC Records Schedule 2.1, records are maintained for 7 years at which time PBGC disposes of them according to the applicable PBGC media sanitization practice.

System manager(s) and address:

Director, Financial Operations Department, Pension Benefit Guaranty Corporation, 1200 K Street NW., Washington, DC 20005-4026.

Notification procedure:

Procedures are detailed in PBGC regulations: 29 CFR Part 4902.

Record access procedures:

An individual may access his or her records via the My PAA application available on the PBGC's Internet Web site (www.pbgc.gov), or by following the procedures outlined at 29 CFR Part 4902.

Contesting record procedures:

Same as notification procedure.

Record source categories:

Subject individual and other registered users.

Exemptions claimed for the system:

None.

PBGC-15

System name:

PBGC-15, Emergency Notification Records—PBGC.

Security classification:

Not applicable.

System location:

Pension Benefit Guaranty Corporation, 1200 K Street NW., Washington, DC 20005-4026.

Categories of individuals covered by the system:

PBGC employees and individuals who work for PBGC as contractors or as employees of contractors.

Categories of records in the system:

Records include name, title, organizational component, employer, PBGC and personal telephone numbers, PBGC and personal email addresses, other contact information, user ID, a temporary, PBGC-issued password, and a user-selected password.

Authority for maintenance of the system:

29 U.S.C. 1302; 44 U.S.C. 3101; Executive Order 12656, 53 FR 47491 (1988); Presidential Decision Directive 67 (1998).

Purpose(s):

This system of records is maintained for use in notifying PBGC employees and individuals who work for PBGC as contractors or employees of contractors of PBGC's operating status in the event of an emergency, natural disaster or other event affecting PBGC operations; for contacting employees or contractors who are out of the office on leave or after regular duty hours to obtain information necessary for official business; or to contact friends or family members if an employee or contractor experiences a medical emergency in the workplace.

Routine uses of records maintained in the system, including categories of users and the purposes of such uses:

1. PBGC General Routine Uses G1, G4, G5, G7, G9, through G11 (see Prefatory Statement of General Routine Uses) apply to this system of records.

2. A record on an individual in this system of records may be disclosed to family members, emergency medical personnel, e.g., doctors, nurses, and/or paramedics, or to law enforcement officials in case of a medical or other emergency involving the PBGC employee without the subsequent notification to the individual identified in 5 U.S.C. 552a(b)(8).

Disclosure to consumer reporting agencies:

None.

Policies and practices for storing, retrieving, accessing, retaining, and disposing of records in the system:

Storage:

Records are maintained an electronic database that is available to authorized PBGC employees and contractors who have been granted access to PBGC's intranet Web site. Paper printouts are also maintained by authorized PBGC personnel in accordance with PBGC's continuity of operations plan.

Retrievability:

Records are indexed by name, organizational component, or user ID and password.

Safeguards:

The PBGC has adopted appropriate administrative, technical, and physical controls in accordance with the PBGC's Automated Information Systems Security Program to protect the security, integrity, and availability of the information, and to assure that paper and electronic records are not disclosed to or accessed by unauthorized individuals.

Retention and disposal:

Records are maintained until they are superseded or obsolete.

Records existing on paper are destroyed by burning, pulping, or shredding. Records existing on computer storage media are destroyed according to the applicable PBGC media sanitization practice.

System manager(s) and address:

Director, Facilities and Services Department, Pension Benefit Guaranty Corporation, 1200 K Street NW., Washington, DC 20005-4026.

Notification procedure:

Procedures are detailed in PBGC regulations: 29 CFR Part 4902.

Record access procedures:

An employee or contractor may access his or her record with a valid user-id and password via the electronic notification and messaging system through PBGC's intranet Web site, or by following the procedures outlined at 29 CFR Part 4902.

Contesting record procedures:

Same as notification procedure.

Record source categories:

Subject individual.

Exemptions claimed for the system:

None.

PBGC-16

System name:

PBGC-16, PBGC Employee Directory.

Security classification:

Not applicable.

System Location:

Pension Benefit Guaranty Corporation, 1200 K Street NW., Washington, DC 20005-4026.

Categories of individuals covered by the system:

PBGC employees and contractors with PBGC network access.

Categories of records in the system:

The system of records may contain the employee's or contractor's name, photograph, personal description, skills, interests, schools, birthday, mobile phone number, home phone number, organizational component and title, supervisor's name, PBGC street address, room or workstation number, PBGC network ID, work email address, and work telephone number and extension.

Authority for maintenance of the system:

29 U.S.C. 1302; 44 U.S.C. 3101.

Purpose(s):

This system of records is used by PBGC employees and employees of PBGC's contractors to identify other PBGC employees by name, face, organizational component or title, or supervisor, skills, interests, birth date, schools, and to access contact information for PBGC employees.

Routine uses of records maintained in the system, including categories of users and the purposes of such uses:

PBGC General Routine Uses G1 through G13 apply to this system of records (See Prefatory Statement of General Routine Uses).

Disclosure to consumer reporting agencies:

Not applicable.

Policies and practices for storing, retrieving, accessing, retaining, and disposing of records in the system:

Storage:

Records are maintained in electronic format in database that is available to authorized PBGC employees and employees of PBGC's contractors who have been granted access to PBGC's network.

Retrievability:

Records are retrieved by name, username, organizational component, job title, work phone number, office number, supervisor, work email, skills, interests, birth date, education, peers, and employee type (federal or contractor).

Safeguards:

The PBGC has adopted appropriate administrative, technical, and physical controls to protect the security, integrity, and availability of information maintained in electronic format, and to assure that records are not disclosed to or accessed by anyone who does not have a need-to-know to perform official duties.

Retention and disposal:

Records are maintained until the subject leaves PBGC employment.

System manager(s) and address:

Director, Communications and Public Affairs Department, Pension Benefit Guaranty Corporation, 1200 K Street NW., Washington, DC 20005-4026.

Notification procedure:

Procedures are detailed in PBGC regulations: 29 CFR Part 4902.

Record access procedures:

Same as notification procedures.

Contesting record procedures:

Same as notification procedure.

Record source categories:

Subject individual and PBGC personnel records.

Exemptions claimed for the system:

None.

PBGC-17

System Name:

PBGC-17, Office of Inspector General Investigative File System—PBGC.

Security Classification:

Not applicable.

System Location:

Office of Inspector General, Pension Benefit Guaranty Corporation, 1200 K Street NW., Washington DC, 20005-4026; Washington National Records Center, 4205 Suitland Road, Suitland, MD 20746-8001; Iron Mountain Inc., 8001 Research Way, Springfield, VA 22153.

Categories of individuals covered by the system:

1. Persons who are named individuals in investigations conducted by OIG.

2. Complainants and subjects of complaints collected through the operation of the OIG Hotline.

3. Other individuals, including witnesses, sources, and members of the general public, who are named individuals in connection with investigations conducted by OIG.

Categories of records in the system:

Information within this system relates to OIG investigations carried out under applicable statutes, regulations, policies, and procedures. The investigations may relate to criminal, civil, or administrative matters. These OIG files may contain investigative reports; copies of personnel, financial, contractual, and property management records maintained by PBGC; information submitted by or about pension plan sponsors or plan participants; background data including arrest records, statements of informants and witnesses, and laboratory reports of evidence analysis; search warrants, summonses and subpoenas; and other information related to investigations. Personal data in the system may consist of names, Social Security numbers, addresses, fingerprints, handwriting samples, reports of confidential informants, physical identifying data, voiceprints, polygraph tests, photographs, and individual personnel and payroll information.

Authority for maintenance of the system:

5 U.S.C. App. 3.

Purpose (s):

This system of records is used to maintain information related to investigations of criminal, civil, or administrative matters.

Routine uses of records maintained in the system, including categories of users and the purposes of such uses:

PBGC General Routine Uses G1, G2, G4, G5, G7, G9, through G13 (see Prefatory Statement of General Routine Uses) apply to this system of records. In addition:

1. A record relating to a person held in custody pending or during arraignment, trial, sentence, or extradition proceedings or after conviction may be disclosed to a federal, state, local, or foreign prison; probation, parole, or pardon authority; or any other agency or individual involved with the maintenance, transportation, or release of such a person.

2. A record relating to a case or matter may be disclosed to an actual or potential party or his or her attorney for the purpose of negotiation or discussion on such matters as settlement of the case or matter, plea bargaining, or informal discovery proceedings.

3. A record may be disclosed to any source, either private or governmental, when reasonably necessary to elicit information or obtain the cooperation of a witness or informant when conducting any official investigation or during a trial or hearing or when preparing for a trial or hearing.

4. A record relating to a case or matter may be disclosed to a foreign country, through the United States Department of State or directly to the representative of such country, under an international treaty, convention, or executive agreement; or to the extent necessary to assist such country in apprehending or returning a fugitive to a jurisdiction that seeks that individual's return.

5. A record originating exclusively within this system of records may be disclosed to other federal offices of inspectors general and councils comprising officials from other federal offices of inspectors general, as required by the Inspector General Act of 1978, as amended. The purpose is to ensure that OIG audit and investigative operations can be subject to integrity and efficiency peer reviews, and to permit other offices of inspectors general to investigate and report on allegations of misconduct by senior OIG officials as directed by a council, the President, or Congress. Records originating from any other PBGC systems of records, which may be duplicated in or incorporated into this system, also may be disclosed with all personally identifiable information redacted.

6. A record may be disclosed to the Department of the Treasury and the Department of Justice when the OIG seeks an ex parte court order to obtain taxpayer information from the Internal Revenue Service.

7. A record may be disclosed to any governmental, professional or licensing authority when such record reflects on qualifications, either moral, educational or vocational, of an individual seeking to be licensed or to maintain a license.

8. A record may be disclosed to any direct or indirect recipient of federal funds, e.g., a contractor, where such record reflects problems with the personnel working for a recipient, and disclosure of the record is made to permit a recipient to take corrective action beneficial to the Government.

Disclosure to consumer reporting agencies:

A record may be disclosed to a “consumer reporting agency,” as that term is defined in the Fair Credit Reporting Act (15 U.S.C. 1681a(f)) and the Federal Claims Collection Act of 1966 (31 U.S.C. 3701(a)(3)), to obtain information in the course of an investigation, audit, or evaluations.

Policies and Practices for Storing, Retrieving, Accessing, Retaining, and Disposing of Records in the System:

Storage:

The information in the records is maintained in a variety of media, including paper, magnetic tapes or discs, and an automated database. The records are maintained in limited access areas during all times; electronic records are maintained in computers and networks that require multiple individual identifications and passwords.

Records are also maintained on magnetic tapes and back-up hard drives.

Retrievability:

Records are indexed by name, Social Security Number, subject category, or assigned case number.

Safeguards:

Paper records, computers, and computer-storage media are located in controlled-access areas under supervision of program personnel. Access to these areas is limited to authorized personnel, who must be identified with a badge. Access to records is limited to individuals whose official duties require such access. Contractors and licensees are subject to contract controls and unannounced on-site audits and inspections. Computers are protected by mechanical locks, card-key systems, or other physical-access control methods. The use of computer systems is regulated with installed security software, computer-logon identifications, and operating-system controls including access controls, terminal and transaction logging, and file-management software.

Retention and Disposal:

1. Official investigative case files, evidence and custody files, and informant files are retained up to 11 years after closeout of the investigation. If significant, the files are transferred to the National Archives and Records Administration.

2. Information reports, investigative analysis reports, and inquiry files are retained up to 6 years after closeout of the investigation.

3. Internal administrative reports are retained up to 3 years after closeout of the investigation.

Records existing on paper are destroyed by burning, pulping, or shredding. Records existing on computer storage media are destroyed according to the applicable PBGC media sanitization practice.

System Manager(s) and Address:

Inspector General, Pension Benefit Guaranty Corporation, 1200 K Street NW., Washington, DC, 20005-4026.

Notification Procedure:

This system is exempt from the notification requirements. However, consideration will be given to inquiries made in compliance with 29 CFR 4902.3.

Record Access Procedures:

This system is exempt from the access requirements. However, consideration will be given to requests made in compliance with 29 CFR 4902.3.

Contesting Record Procedures:

Exempt. However, consideration will be given requests made in compliance with 29 CFR 4902.3.

Record Source Categories:

The information contained in this system may be derived or received from individual complainants, witnesses, interviews conducted during investigations, Federal, state and local government records, individual or company records, claim and payment files, employer medical records, insurance records, court records, articles from publications, financial data, bank information, telephone data, insurers, service providers, other law enforcement organizations, grantees and subgrantees, contractors and subcontractors, pension plan sponsors and participants, and other sources.

Systems Exempted From Certain Provisions of the Act:

Pursuant to 5 U.S.C. 552a(j) and (k), PBGC has established regulations at 29 CFR 4902.11 that exempt records in this system depending on their purpose.

PBGC-18

System name:

PBGC-18, Office of Negotiation and Restructuring Risk Management Early Warning System—PBGC.

Security classification:

Not applicable.

System Location:

Office of Negotiations and Restructuring, Pension Benefit Guaranty Corporation, 1200 K Street NW., Washington DC, 20005-4026; Iron Mountain Inc., 8001 Research Way, Springfield, VA 22153.

Categories of individuals covered by the system:

1. Persons who are participants, beneficiaries, and alternate payees in pension plans covered by Title IV of the Employee Retirement Income Security Act of 1974, as amended (“ERISA”).

2. Pension plan sponsors, administrators, control group members and third parties, who are responsible for, manage, or have control over ERISA pension plans.

3. Other individuals, including information sources and members of the general public, who are identified in connection with investigations conducted pursuant to ERISA Section 4003(a), 29 U.S.C. 1303(a), and litigation conducted with regard to ERISA Title IV pension plans.

Categories of records in the system:

Information within this system relates to Corporate Finance and Restructuring Division (“CFRD”), Office of the Chief Counsel (“OCC”), and PBGC investigations and litigation carried out under applicable statutes, regulations, policies, and procedures concerning the potential termination and trusteeship of ERISA Title IV pension plans, as well as civil or administrative matters concerning companies or individuals associated with ERISA Title IV pension plans. These files may include reports; copies of financial and contractual records; background data including witness statements, summonses and subpoenas; and other information related to investigations and litigation. Personal data in the system may consist of names, gender, dates of birth, dates of hire, salary, marital status (including domestic relation orders), Social Security numbers and other Social Security Administration information, addresses, telephone numbers, time of plan participation, pay status, benefit data, eligibility status, health-related information, insurance information (where plan benefits are guaranteed by private insurers), initial and final PBGC determinations (29 CFR 4003.21 and 4003.59), federal income and other tax records, and information provided by labor unions or other organizations.

Authority for maintenance of the system:

29 U.S.C. Sections 1055, 1056(d)(3), 1302, 1303, 1310, 1321, 1322, 1322a, 1341, 1342, 1343 and 1350; 44 U.S.C. 3101.

Purpose(s):

This system of records is used to maintain information related to investigations and litigation associated with the potential termination and trusteeship of ERISA pension plans.

Routine uses of records maintained in the system, including categories of users and the purposes of such users:

1. PBGC General Routine Uses G1, G4, G5, G6, G7, G9 through G12 (see Prefatory Statement of General Routine Uses) apply to this system of records. In addition:

2. A record from this system of records may be disclosed, in furtherance of proceedings under Title IV of ERISA, to a contributing sponsor (or other employer who maintained the plan), including any predecessor or successor, and any member of the same controlled group.

Disclosure to consumer reporting agencies:

None.

Policies and Practices for Storing, Retrieving, Accessing, Retaining, and Disposing of Records in the System:

Storage:

The information in the records is maintained in a variety of media, including paper, magnetic tapes or discs, and an automated, electronic database.

Retrievability:

Records are indexed by name or other personal identifier or assigned case number.

Safeguards:

Paper records are kept in file folders in areas of restricted access that are locked after office hours. Electronic records are stored on computer networks and protected by (1) assigning network user identification numbers to the individuals and by passwords set by authorized users that must be changed periodically; and, (2) assigning system user identification numbers to the individuals needing access to the records and by passwords set by authorized users that must be changed periodically.

Retention and Disposal:

Core case file records contain records accumulated, prepared, collected or received, are destroyed, if not electric files, 40 years after the case is closed, and if electric files, 135 years after the case is closed.

Records existing on paper are destroyed by burning, pulping, or shredding. Records existing on computer storage media are destroyed according to the applicable PBGC media sanitization practice.

System Manager(s) and Address:

Director, Office of Negotiations and Restructuring, Pension Benefit Guaranty Corporation, 1200 K Street NW., Washington, DC, 20005-4026.

Notification Procedure:

Procedures are detailed in the PBGC's regulations: 29 CFR Part 4902.

Exemptions claimed for the system:

None.

Record Access Procedures:

Same as notification procedure.

Contesting Record Procedures:

Same as notification procedure.

Record Source Categories:

The information contained in this system may be derived or received from pension plan participants, sponsors, administrators or third-parties, federal government records, individual or company records, claim and payment files, insurers, the Social Security Administration, labor organizations, firms or agencies providing locator services, court records, articles from publications, financial data, bank information, telephone data, and USPS licensees.

Systems Exempted From Certain Provisions of the Act:

None.

PBGC—19

System Name:

PBGC-19, Office of General Counsel Case Management System—PBGC.

Security classification:

Not applicable.

System location:

Office of General Counsel, Pension Benefit Guaranty Corporation, 1200 K Street NW., Washington, DC 20005-4026; Iron Mountain Inc., 8001 Research Way, Springfield, VA 22153.

Categories of individuals covered by the system:

1. Persons who are participants, beneficiaries, and alternate payees in pension plans covered by Title IV of the Employee Retirement Income Security Act of 1974, as amended (“ERISA”).

2. Pension plan sponsors, administrators, control group members and third parties, who are responsible for, manage, or have control over ERISA pension plans.

3. Other individuals, including information sources and members of the general public, who are identified in connection with investigations conducted pursuant to ERISA Section 4003(a), 29 U.S.C. 1303(a), and litigation conducted with regard to ERISA pension plans.

4. Persons who are parties, plaintiff or defendant, or witnesses in civil litigation or administrative proceedings involving or concerning the PBGC or its officers or employees. This system does not include information on every civil litigation or administrative proceeding involving the PBGC or its officers and employees.

5. Persons who are the subject of a breach of personally identifiable information.

6. Persons who are potential contractors or contractors with PBGC.

7. Persons who receive ethics advice from PBGC ethics counselors and those who file financial disclosure reports.

Categories of records in the system:

Records in this system pertain to a broad variety of litigation relating to ERISA Title IV, the appeals of pension benefit determinations, labor and employment, and procurement matters. These files may include reports; copies of financial and contractual records; background data including personnel records, witness statements, summonses and subpoenas, discovery requests and responses, and resumes; ethics advice; and breach reports and supporting documentation. Personal data in the system may consist of names, gender, dates of birth, dates of hire, dates of death, salary, marital status (including domestic relation orders), medical records, Social Security numbers and other Social Security Administration information, addresses, telephone numbers, email addresses; time of plan participation, pay status, benefit data, eligibility status, health-related information, insurance information (where plan benefits are guaranteed by private insurers), initial and final PBGC determinations (29 CFR 4003.21 and 4003.59), appeals of PBGC final determinations; and information provided by labor unions or other organizations.

Authority for maintenance of the system:

29 U.S.C. Sections 1055, 1056(d)(3), 1302, 1303, 1310, 1321, 1322, 1322a, 1341, 1342, 1343 and 1350; 5 U.S.C. app. 105; 5 U.S.C. 301; 44 U.S.C. 3101.

Purpose(s):

Case records are maintained for the purpose of litigating or resolving any case or matter handled by the Office of the General Counsel. Ethics records document the activities of PBGC's ethics program, including financial disclosure reports; ethics agreements; outside employment and activity records; referrals of violations of criminal conflict of interest statutes; ethics determination, advice, consultation, and training records; and other commonly held ethics program records. The privacy breach reports and supporting documentation allow for program officials to determine whether the agency can improve the protection of personally identifiable information and to mitigate any breaches.

Routine uses of records maintained in the system, including categories of users and the purposes of such uses:

PBGC General Routine Uses G1, G2, G3, G4, G5, G6, G7, G8, G9 through G13 (see Prefatory Statement of General Routine Uses) apply to this system of records. In addition:

1. A record from this system of records may be disclosed, in furtherance of proceedings under Title IV of ERISA, to a contributing sponsor (or other employer who maintained the plan), including any predecessor or successor, and any member of the same controlled group.

2. Names, addresses, and telephone numbers of employees, former employees, participants, and beneficiaries and information pertaining to debts to the PBGC may be disclosed to the Department of Treasury, the Department of Justice, a credit agency, and a debt collection firm to collect the debt. Disclosure to a debt collection firm shall be made only under a contract that binds any such contractor or employee of such contractor to the criminal penalties of the Privacy Act.

3. Information may be disclosed to a court, magistrate, or administrative tribunal in the course of presenting evidence, including disclosures to opposing counsel or witnesses in the course of civil discovery, litigation, or settlement negotiations in response to a court order or in connection with criminal law proceedings.

4. Information may be provided to a congressional office in response to an inquiry made at the request of the individual to whom the record pertains.

5. Information may be provided to third parties during the course of an investigation to the extent necessary to obtain information pertinent to the investigation.

6. Relevant and necessary information may be disclosed to a former employee of PBGC for the purposes of: (1) Responding to an official inquiry by federal, state, or local government entity or professional licensing authority; or, (2) facilitating communications with a former employee that may be necessary for personnel-related or other official purposes where PBGC requires information and/or consultation assistance from the former employee regarding a matter within that person's former area of responsibility.

7. A record relating to a case or matter may be disseminated to a foreign country pursuant to an international treaty or convention entered into and ratified by the United States or to an executive agreement.

8. A record may be disseminated to a foreign country, through the United states Department of State or directly to the representative of such country, to the extent necessary to assist such country in civil or criminal proceedings in which the United States or one of its officers or agencies has an interest.

Disclosure to consumer reporting agencies:

None.

Policies and Practices for Storing, Retrieving, Accessing, Retaining, and Disposing of Records in the System:

Storage:

The information in the records is maintained in a variety of media, including paper, magnetic tapes or discs, and an automated, electronic database.

Retrievability:

Records are indexed by name or other personal identifier or assigned case number.

Safeguards:

Paper records are kept in file folders in areas of restricted access that are locked after office hours. Electronic records are stored on computer networks and protected by assigning unique user identification numbers to individuals who are authorized to access the records, and by passwords set by these users that must be changed periodically.

Retention and Disposal:

1. Pursuant to NARA General Records Schedule 25.1, ethics advice is destroyed and deleted 6 years after the end of the fiscal year after the matter was closed. Public and Confidential Financial Disclosure reports are destroyed and deleted 6 years after they are filed with the agency.

2. Pursuant to PBGC's Simplified Records Schedule 1.7, legal administrative records such as legal memoranda and other legal advice materials which are not part of a litigation matter and which are critical to an understanding of that matter are destroyed or deleted 20 years after the end of the fiscal year in which the latest document use occurred.

3. Pursuant to PBGC's Simplified Records Schedule 1.8, legal administrative records which have been associated with a non-ERISA litigation case, such as agreements and financial instruments, background case files, investigation and case management files, and official litigation, together with all other records with which they have been associated by the case number or identifier, are destroyed or deleted 15 years after the end of the fiscal year in which the case or matter was finished or closed.

4. Pursuant to PBGC's Simplified Records Schedule 2.3, core case mission-related file records, such as ERISA litigation, plan terminations, and benefits, and which are accumulated, prepared, collected or received, are destroyed, if not electric files, 40 years after the case is closed, and if electric files, 135 years after the case is closed.

Records existing on paper are destroyed by burning, pulping, or shredding. Records existing on computer storage media are destroyed according to the applicable PBGC media sanitization practice.

System Manager(s) and Address:

Assistant General Counsel of Legal Technology and Administration, Pension Benefit Guaranty Corporation, 1200 K Street NW., Washington, DC 20005-4026.

Notification Procedure:

Procedures are detailed in the PBGC's regulations: 29 CFR Part 4902.

Exemptions claimed for the system:

None.

Record Access Procedures:

Same as notification procedure.

Contesting Record Procedures:

Same as notification procedure.

Record Source Categories:

The information contained in this system may be derived or received from pension plan participants, sponsors, administrators or third-parties, federal government records, employees and former employees, contractors, witnesses, individual or company records, claim and payment files, insurers, the Social Security Administration, labor organizations, court records, articles from publications, financial data, bank information, telephone data.

Systems Exempted From Certain Provisions of the Act:

None.

PBGC—20

System name:

Identity Management System (IDMS).

System location:

Pension Benefit Guaranty Corporation, 1200 K Street NW., Washington, DC 20005-4026. Siemens Industry, Inc., 6435 Virginia Manor Road, Beltsville, MD 20705.

Security classification:

Most identity records are not classified. However, in some cases, records of certain individuals, or portions of some records, may be classified in the interest of national security.

Categories of individuals covered by the system:

Individuals who require regular, ongoing access to agency facilities, information technology systems, or information classified in the interest of national security, including applicants for employment or contracts, federal employees, contractors, students, interns, and volunteers, and individuals formerly in any of these positions. The system also includes individuals authorized to perform or use services provided in agency facilities (e.g., Fitness Center). The system does not apply to occasional visitors or short-term guests to whom PBGC will issue temporary identification and credentials.

Categories of records in the system:

Records maintained on individuals issued credentials by PBGC include the following data fields: Full name, Social Security number; date of birth; signature; image (photograph); fingerprints; hair color; eye color; height; weight; organization/office of assignment; company name; telephone number; copy of background investigation form; Personal Identity Verification (PIV) card issue and expiration dates; personal identification number (PIN); results of background investigation; PIV request form; PIV registrar approval signature; PIV card serial number; emergency responder designation; PIV card expiration date; copies of documents used to verify identification or information derived from those documents such as document title, document issuing authority, document number, document expiration date, document other information; and, level of national security clearance and expiration date.

Records maintained on card holders entering PBGC facilities: Name, PIV Card serial number; date, time, and location of entry and exit; company name; and, level of national security clearance and expiration date.

Authority for maintenance of the system:

5 U.S.C. 301; Federal Information Security Act (Pub. L. 104-106, sec. 5113); Electronic Government Act (Pub. L. 104-347, sec. 203); the Paperwork Reduction Act of 1995 (44 U.S.C. 3501); and the Government Paperwork Elimination Act (Pub. L. 105-277, 44 U.S.C. 3504); Homeland Security Presidential Directive (HSPD) 12, Policy for a Common Identification Standard for Federal Employees and Contractors, August 27, 2004; Federal Property and Administrative Act of 1949, as amended.

Purpose:

The primary purposes of the system are: (a) To ensure the safety and security of PBGC facilities, systems, or information, and our occupants and users; (b) To verify that all persons entering federal facilities, using federal information resources, or accessing classified information are authorized to do so; (c) to track and control PIV cards issued to persons entering and exiting the facilities, using systems, or accessing classified information.

Routine uses of records maintained in the system including categories of users and the purposes of such uses:

Information about covered individuals may be disclosed without consent as permitted by the Privacy Act of 1974, 5 U.S.C. 552a(b), and:

(1) Except as noted on Forms SF 85, 85-P, and 86, when a record on its face, or in conjunction with other records, indicates a violation or potential violation of law, whether civil, criminal, or regulatory in nature, and whether arising by general statute or particular program statute, or by regulation, rule, or order issued pursuant thereto, disclosure may be made to the appropriate public authority, whether Federal, foreign, State, local, or tribal, or otherwise, responsible for enforcing, investigating or prosecuting such violation or charged with enforcing or implementing the statute, or rule, regulation, or order issued pursuant thereto, if the information disclosed is relevant to any enforcement, regulatory, investigative or prosecutorial responsibility of the receiving entity.

(2) To notify another federal agency when, or verify whether, a PIV card is no longer valid.

(3) General Routine Uses G1 through G13 (see Prefatory Statement of General Routine Uses) apply to this system of records.

Disclosure to consumer reporting agencies:

Not applicable.

Policies and practices for storing, retrieving, accessing, retaining, and disposing of records in the system:

Storage:

Records are stored in electronic media and in paper files.

Retrievability:

Records are retrievable by name, Social Security number, PIV card serial number, image (photograph), fingerprint.

Safeguards:

Paper records are kept in file cabinets in areas of restricted access that are locked after office hours. Electronic records are stored on computer networks and protected by assigning both network and system-specific user identification numbers to individuals needing access to the records and by passwords set by authorized users that must be changed periodically.

GSA maintains an audit trail which is reviewed periodically to identify unauthorized access. Persons given roles in the PIV process must complete training specific to their roles to ensure they are knowledgeable about how to input and protect individually identifiable information.

Retention and disposal:

Records relating to persons covered by this system are retained in accordance with General Records Schedule 18, Item 17. Unless retained for specific, ongoing security investigations, records of access are maintained for two years. All other records relating to employees are destroyed two years after ID security card expiration date.

In accordance with HSPD-12, PIV Cards are deactivated within 18 hours of cardholder separation, loss of card, or expiration. The information on PIV Cards is maintained in accordance with General Records Schedule 11, Item 4. PIV Cards are destroyed by shredding 90 days after deactivation.

Records existing on paper are destroyed by burning, pulping, or shredding. Records existing on computer storage media are destroyed according to the applicable PBGC media sanitization practice.

System manager (s) and address:

Director, Facilities and Services Department, Pension Benefit Guaranty Corporation, 1200 K Street NW., Washington, DC 20005-4026.

Notification procedures:

Procedures are detailed in PBGC regulations: 29 CFR Part 4902.

Records access procedures:

Same as notification procedures.

Contesting record procedures:

Same as notification procedures.

Record source categories:

Employee, contractor, or applicant; sponsoring agency; former sponsoring agency; other federal agencies; contract employer; former employer.

Exemptions claimed for the system:

None.

[FR Doc. 2012-23418 Filed 9-25-12; 8:45 am]

BILLING CODE 7709-01-P